FEDERAL COMMUNICATIONS COMMISSION

47 CFR Ch. I

Unified Agenda of Federal Regulatory and Deregulatory Actions—Spring 2018

AGENCY: Federal Communications Commission.

ACTION: Semiannual regulatory agenda.

SUMMARY: Twice a year, in the spring and fall, the Commission publishes in the Federal Register a list in the Unified Agenda of those major items and other significant proceedings under development or review that pertain to the Regulatory Flexibility Act (U.S.C. 602). The Unified Agenda also provides the Code of Federal Regulations citations and legal authorities that govern these proceedings. The complete Unified Agenda will be published on the internet in a searchable format at www.reginfo.gov.

ADDRESSES: Federal Communications Commission, 445 12th Street SW, Washington, DC 20554.

FOR FURTHER INFORMATION CONTACT: Maura McGowan, Telecommunications Policy Specialist, Federal Communications Commission, 445 12th Street SW, Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 15-1 or Docket No. 17-1). The abbreviation for the responsible bureau usually precedes the docket number, as in “MB Docket No. 15-137,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
256 | Implementation of the Subscriber Selection Changes Provision of the Telecommunications Act of 1996 (CC Docket No. 94-129) | 3060-AG46
257 | Rules and Regulations Implementing the Telephone Consumer Protection Act (TCPA) of 1991 (CG Docket No. 02-278) | 3060-AI14
258 | Rules and Regulations Implementing Section 225 of the Communications Act (Telecommunications Relay Service) (CG Docket No. 03-123) | 3060-AI15
259 | Closed-Captioning of Video Programming; CG Docket Nos. 05-231 and 06-181 (Section 610 Review) | 3060-AI72
260 | Empowering Consumers to Prevent and Detect Billing for Unauthorized Charges (“Cramming”) (CC Docket No. 98-170; CG Docket Nos. 09-158, 11-116) | 3060-AJ72
261 | Misuse of Internet Protocol (IP) Captioned Telephone Service; Telecommunications Relay Services and Speech-to-Speech Services; CG Docket No. 13-24 | 3060-AK01
262 | Transition From TTY to Real-Time Text Technology (GN Docket No. 15-178; CG Docket No. 1645) | 3060-AK58
263 | Advanced Methods to Target and Eliminate Unlawful Robocalls; (CG Docket No. 17-59) | 3060-AK62

Office of Engineering and Technology—Long-Term Actions
Sequence No. | Title | Regulation Identifier No.
264 | Unlicensed Operation in the TV Broadcast Bands (ET Docket No. 04-186) | 3060-AI52
265 | Fixed and Mobile Services in the Mobile Satellite Service (ET Docket No. 10-142) | 3060-AJ46
266 | Operation of Radar Systems in the 76-77 GHz Band (ET Docket No. 11-90) | 3060-AJ68
267 | Federal Earth Stations—Non-Federal Fixed Satellite Service Space Stations; Spectrum for Non-Federal Space Launch Operations; ET Docket No. 13-115 | 3060-AK09
268 | Authorization of Radiofrequency Equipment; ET Docket No. 13-44 | 3060-AK10
269 | Operation of Radar Systems in the 76-77 GHz Band (ET Docket No. 15-26) | 3060-AK29
270 | Spectrum Access for Wireless Microphone Operations (GN Docket Nos. 14-166 and 12-268) | 3060-AK30

International Bureau—Long-Term Actions
Sequence No. | Title | Regulation Identifier No.
271 | International Settlements Policy Reform (IB Docket No. 11-80) | 3060-AJ77
272 | Comprehensive Review of Licensing and Operating Rules for Satellite Services (IB Docket No. 12-267) | 3060-AJ98
273 | Update to Parts 2 and 25 Concerning NonGeostationary, Fixed-Satellite Service Systems and Related Matters; IB Docket No. I6-408 | 3060-AK59

Media Bureau—Long-Term Actions
Sequence No. | Title | Regulation Identifier No.
274 | Broadcast Ownership Rules | 3060-AH97
275 | Promoting Diversification of Ownership in the Broadcast Services (MB Docket Nos. 07-294 and 17-289) | 3060-AJ27
276 | Closed Captioning of Internet Protocol-Delivered Video Programming: Implementation of the Twenty-First Century Communications and Video Accessibility Act of 2010 (MB Docket No. 11-154) | 3060-AJ67
277 | Authorizing Permissive Use of the “Next Generation” Broadcast Television Standard (GN Docket No. 16-142) | 3060-AK56
278 | Elimination of Main Studio Rule; (MB Docket No. 17-106) | 3060-AK61
279 | Amendment of 47 CFR 73.624(g) Regarding Submission of FCC Form 2100 and 47 CFR 73.3580 Regarding Public Notice of the Filing of Broadcast Application (MB Docket No. 17-264) | 3060-AK68
280 | FCC Form 325 Data Collection (MB Docket No. 17-290) | 3060-AK69
281 | Electronic Delivery of MVPD Communications (MB Docket No. 17-317) | 3060-AK70
282 | Filing of Paper Broadcast Contracts (MB Docket No. 18-4) | 3060-AK71

Office of Managing Director—Long-Term Actions
Sequence No. | Title | Regulation Identifier No.
283 | Assessment and Collection of Regulatory Fees for Fiscal Year 2017; MD Docket No. 17-134 | 3060-AK64

Public Safety and Homeland Security Bureau—Long-Term Actions
Sequence No. | Title | Regulation Identifier No.
284 | Enhanced 911 Services for Wireline and Multi-Line Telephone Systems; PS Docket Nos. 10-255 and 07-114 | 3060-AG60
285 | Commission Rules Concerning Disruptions to Communications (PS Docket No. 11-82) | 3060-AI22
286 | Wireless E911 Location Accuracy Requirements; PS Docket No. 07-114 | 3060-AJ52
287 | Proposed Amendments to Service Rules Governing Public Safety Narrowband Operations in the 769-775 and 799-805 MHz Bands; PS Docket No. 13-87 | 3060-AK19
288 | Improving Outage Reporting for Submarine Cables and Enhancing Submarine Cable Outage Data; GN Docket No. 15-206 | 3060-AK39
289 | Amendments to Part 4 of the Commission's Rules Concerning Disruptions to Communications; PS Docket No. 15-80 | 3060-AK40
290 | New Part 4 of the Commission's Rules Concerning Disruptions to Communications; ET Docket No. 04-35 | 3060-AK41
291 | Wireless Emergency Alerts (WEA); PS Docket No. 15-91 | 3060-AK54
292 | Blue Alert EAS Event Code | 3060-AK63

Wireless Telecommunications Bureau—Long-Term Actions
Sequence No. | Title | Regulation Identifier No.
293 | Review of Part 87 of the Commission's Rules Concerning Aviation (WT Docket No. 01-289) | 3060-AI35
294 | Amendment of Part 101 of the Commission's Rules for Microwave Use and Broadcast Auxiliary Service Flexibility | 3060-AJ47
295 | Universal Service Reform Mobility Fund (WT Docket No. 10-208) | 3060-AJ58
296 | Expanding the Economic and Innovation Opportunities of Spectrum Through Incentive Auctions; (GN Docket No. 12-268) | 3060-AJ82
297 | Amendment of Parts 1, 2, 22, 24, 27, 90 and 95 of the Commission's Rules to Improve Wireless Coverage Through the Use of Signal Boosters (WT Docket No. 10-4) | 3060-AJ87
298 | Promoting Technological Solutions to Combat Wireless Contraband Device Use in Correctional Facilities; GN Docket No. 13-111 | 3060-AK06
299 | Promoting Investment in the 3550-3700 MHz Band; GN Docket No. 17-258 | 3060-AK12
300 | 800 MHz Cellular Telecommunications Licensing Reform; Docket No. 12-40 | 3060-AK13
301 | Updating Part 1 Competitive Bidding Rules (WT Docket No. 14-170) | 3060-AK28
302 | Use of Spectrum Bands Above 24 GHz for Mobile Services—Spectrum Frontiers; WT Docket 10-112 | 3060-AK44

Wireline Competition Bureau—Long-Term Actions
Sequence No. | Title | Regulation Identifier No.
303 | Telecommunications Carriers' Use of Customer Proprietary Network Information and Other Customer Information (CC Docket No. 96-115) | 3060-AG43
304 | Numbering Resource Optimization | 3060-AH80
305 | Jurisdictional Separations | 3060-AJ06
306 | Development of Nationwide Broadband Data To Evaluate Reasonable and Timely Deployment of Advanced Services to All Americans | 3060-AJ15
307 | Local Number Portability Porting Interval and Validation Requirements (WC Docket No. 07-244) | 3060-AJ32
308 | Implementation of Section 224 of the Act; A National Broadband Plan for Our Future (WC Docket No. 07-245, GN Docket No. 09-51) | 3060-AJ64
309 | Rural Call Completion; WC Docket No. 13-39 | 3060-AJ89
310 | Rates for Inmate Calling Services; WC Docket No. 12-375 | 3060-AK08
311 | Comprehensive Review of the Part 32 Uniform System of Accounts (WC Docket No. 14-130) | 3060-AK20
312 | Restoring Internet Freedom (WC Docket No. 17-108); Protecting and Promoting the Open Internet; (GN Docket No. 14-28) | 3060-AK21
313 | Technology Transitions; GN Docket No. 13-5, WC Docket No. 05-25; Accelerating Wireline Broadband Deployment by Removing Barriers to Infrastructure Investment; WC Docket No. 17-84 | 3060-AK32
314 | Modernizing Common Carrier Rules, WC Docket No. 15-33 | 3060-AK33
315 | Numbering Policies for Modern Communications, WC Docket No. 13-97 | 3060-AK36
316 | Implementation of the Universal Service Portions of the 1996 Telecommunications Act | 3060-AK57

FEDERAL COMMUNICATIONS COMMISSION (FCC)

Consumer and Governmental Affairs Bureau

Long-Term Actions

256. Implementation of the Subscriber Selection Changes Provision of the Telecommunications Act of 1996 (CC Docket No. 94-129)

E.O. 13771 Designation: Independent agency.

Legal Authority: 47 U.S.C. 154; 47 U.S.C. 201; 47 U.S.C. 258

Abstract: Section 258 of the Communications Act of 1934, as amended, makes it unlawful for any telecommunications carrier to submit or execute a change in a subscriber's selection of a provider of telecommunications exchange service or telephone toll service except in accordance with verification procedures that the Commission prescribes. Failure to comply with such procedures is known as “slamming.” In CC Docket No. 94-129, the Commission implements and interprets section 258 by adopting rules, policies, and declaratory rulings.

Timetable:

Action | Date | FR Cite
MO&O on Recon and FNPRM | 08/14/97 | 62 FR 43493
FNPRM Comment Period End | 09/30/97
Second R&O and Second FNPRM | 02/16/99 | 64 FR 7745
First Order on Recon | 04/13/00 | 65 FR 47678
Third R&O and Second Order on Recon | 11/08/00 | 65 FR 66934
Third FNPRM | 01/29/01 | 66 FR 8093
Order | 03/01/01 | 66 FR 12877
First R&O and Fourth R&O | 06/06/01 | 66 FR 30334
Second FNPRM | 03/17/03 | 68 FR 19176
Third Order on Recon | 03/17/03 | 68 FR 19152
Second FNPRM Comment Period End | 06/17/03
First Order on Recon & Fourth Order on Recon | 03/15/05 | 70 FR 12605
Fifth Order on Recon | 03/23/05 | 70 FR 14567
Order | 02/04/08 | 73 FR 6444
Fourth R&O | 03/12/08 | 73 FR 13144
NPRM | 08/14/17 | 82 FR 37830
Next Action Undetermined

Regulatory Flexibility Analysis Required: Yes.

Agency Contact: Kimberly Wild, Attorney Advisor, Federal Communications Commission, 445 12th Street SW, Washington, DC 20554, Phone: 202 418-1324, Email: kimberly.wild@fcc.gov.

RIN: 3060-AG46

257. Rules and Regulations Implementing the Telephone Consumer Protection Act (TCPA) of 1991 (CG Docket No. 02-278)

E.O. 13771 Designation: Independent agency.

Legal Authority: 47 U.S.C. 227

Abstract: In this docket, the Commission considers rules and policies to implement the Telephone Consumer Protection Act of 1991 (TCPA). The TCPA places requirements on: Robocalls (calls using an automatic telephone dialing system an “autodialer” or a prerecorded or artificial voice), telemarketing calls, and unsolicited fax advertisements.

Timetable:

Action | Date | FR Cite
NPRM | 10/08/02 | 67 FR 62667
FNPRM | 04/03/03 | 68 FR 16250
Order | 07/25/03 | 68 FR 44144
Order Effective | 08/25/03
Order on Reconsideration | 08/25/03 | 68 FR 50978
Order | 10/14/03 | 68 FR 59130
FNPRM | 03/31/04 | 69 FR 16873
Order | 10/08/04 | 69 FR 60311
Order | 10/28/04 | 69 FR 62816
Order on Reconsideration | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Reconsideration | 10/30/08 | 73 FR 64556
NPRM | 03/22/10 | 75 FR 13471
R&O | 06/11/12 | 77 FR 34233
Public Notice | 06/30/10 | 75 FR 34244
Public Notice (Reconsideration Petitions Filed) | 10/03/12 | 77 FR 60343
Announcement of Effective Date | 10/16/12 | 77 FR 63240
Opposition End Date | 10/18/12
Rule Corrections | 11/08/12 | 77 FR 66935
Declaratory Ruling (release date) | 11/29/12
Declaratory Ruling (release date) | 05/09/13
Declaratory Ruling and Order | 10/09/15 | 80 FR 61129
NPRM | 05/20/16 | 81 FR 31889
Declaratory Ruling | 07/05/16
R&O | 11/16/16 | 81 FR 80594
Next Action Undetermined

Regulatory Flexibility Analysis Required: Yes.

Agency Contact: Kristi Thornton, Attorney Advisor, Federal Communications Commission, 445 12th Street SW, Washington, DC 20554, Phone: 202 418-2467, Email: kristi.thornton@fcc.gov.

RIN: 3060-AI14

258. Rules and Regulations Implementing Section 225 of the Communications Act (Telecommunications Relay Service) (CG Docket No. 03-123)

E.O. 13771 Designation: Independent agency.

Legal Authority: 47 U.S.C. 151; 47 U.S.C. 154; 47 U.S.C. 225

Abstract: This proceeding continues the Commission's inquiry into improving the quality of telecommunications relay service (TRS) and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Reconsideration | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Reconsideration | 08/31/05 | 70 FR 51643
R&O | 08/31/05 | 70 FR 51649
Order | 09/14/05 | 70 FR 54294
Order | 09/14/05 | 70 FR 54298
Public Notice | 10/12/05 | 70 FR 59346
R&O/Order on Reconsideration | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Reconsideration | 07/06/06 | 71 FR 38268
Order on Reconsideration | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Reconsideration | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13
FNPRM | 07/05/13 | 78 FR 40407
FNPRM Comment Period End | 09/18/13
R&O | 07/05/13 | 78 FR 40582
R&O | 08/15/13 | 78 FR 49693
FNPRM | 08/15/13 | 78 FR 49717
FNPRM Comment Period End | 09/30/13
R&O | 08/30/13 | 78 FR 53684
FNPRM | 09/03/13 | 78 FR 54201
NPRM | 10/23/13 | 78 FR 63152
FNPRM Comment Period End | 11/18/13
Petiton for Reconsideration; Request for Comment | 12/16/13 | 78 FR 76096
Petition for Reconsideration; Request for Comment | 12/16/13 | 78 FR 76097
Request for Clarification; Request for Comment; Correction | 12/30/13 | 78 FR 79362
Petition for Reconsideration Comment Period End | 01/10/14
NPRM Comment Period End | 01/21/14
Announcement of Effective Date | 07/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
R&O and Order | 10/21/14 | 79 FR 62875
FNPRM | 10/21/14 | 79 FR 62935
FNPRM Comment Period End | 12/22/14
Final Action (Announcement of Effective Date) | 10/30/14 | 79 FR 64515
Final Rule Effective | 10/30/14
FNPRM | 11/08/15 | 80 FR 72029
FNPRM Comment Period End | 01/01/16
Public Notice | 01/20/16 | 81 FR 3085
Public Notice Comment Period End | 02/16/16
R&O | 03/21/16 | 81 FR 14984
FNPRM | 08/24/16 | 81 FR 57851
FNPRM Comment Period End | 09/14/16
NOI and FNPRM | 04/12/17 | 82 FR 17613
NOI and FNPRM Comment Period End | 05/30/17
R&O | 04/13/17 | 82 FR 17754
R&O | 04/27/17 | 82 FR 19322
FNPRM | 04/27/17 | 82 FR 19347
FNPRM Comment Period End | 07/11/17
R&O | 06/23/17 | 82 FR 28566
Public Notice | 07/21/17 | 82 FR 33856
Public Notice—Correction | 07/25/17 | 82 FR 34471
Public Notice Comment Period End | 07/31/17
Public Notice—Correction Comment Period End | 08/17/17
R&O | 08/22/17 | 82 FR 39673
Announcement of Effective Date | 10/17/17 | 82 FR 48203
Public Notice; Petition for Reconsideration | 10/25/17 | 82 FR 49303
Oppositions Due Date | 11/20/17
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AI15

259. Closed-Captioning of Video Programming; CG Docket Nos. 05-231 and 06-181 (Section 610 Review)

E.O. 13771 Designation: Independent agency.

Legal Authority: 47 U.S.C. 613

Abstract: The Commission's closed-captioning rules are designed to make video programming more accessible to deaf and hard-of-hearing Americans. This proceeding has resolved issues regarding the quality of closed-captioning. Further action is required to resolve a petition that has been filed regarding video programmer registration and certification rules.

Timetable:

Action | Date | FR Cite
NPRM | 02/03/97 | 62 FR 4959
R&O | 09/16/97 | 62 FR 48487
Order on Reconsideration | 10/20/98 | 63 FR 55959
NPRM | 09/26/05 | 70 FR 56150
Order and Declaratory Ruling | 01/13/09 | 74 FR 1594
NPRM | 01/13/09 | 74 FR 1654
Final Rule Correction | 09/11/09 | 74 FR 46703
Final Rule (Announcement of Effective Date) | 02/19/10 | 75 FR 7370
Order | 02/19/10 | 75 FR 7368
Order Suspending Effective Date | 02/19/10 | 75 FR 7369
Waiver Order | 10/04/10 | 75 FR 61101
Public Notice | 11/17/10 | 75 FR 70168
Interim Final Rule (Order) | 11/01/11 | 76 FR 67376
Final Rule (MO&O) | 11/01/11 | 76 FR 67377
NPRM | 11/01/11 | 76 FR 67397
NPRM Comment Period End | 12/16/11
Public Notice | 05/04/12 | 77 FR 26550
Public Notice | 12/15/12 | 77 FR 72348
Final Rule Effective | 03/16/15
FNPRM | 03/27/14 | 79 FR 17094
R&O | 03/31/14 | 79 FR 17911
FNPRM Comment Period End | 07/25/14
Final Action (Announcement of Effective Date) | 12/29/14 | 79 FR 77916
2nd FNPRM | 12/31/14 | 79 FR 78768
Comment Period End | 01/30/15
2nd R&O | 08/23/16 | 81 FR 57473
Announcement of Effective Date | 12/22/17 | 82 FR 60679
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AI72

260. Empowering Consumers To Prevent and Detect Billing for Unauthorized Charges (“CRAMMING”) (CC Docket No. 98-170; CG Docket Nos. 09-158, 11-116)

E.O. 13771 Designation: Independent agency.

Legal Authority: 47 U.S.C. 201; 47 U.S.C. 301; 47 U.S.C. 303; 47 U.S.C. 332

Abstract: Cramming is the placement of unauthorized charges on a telephone bill, an unlawful practice under the Communications Act. In these dockets, the Commission considers rules and policies to help consumers detect and prevent cramming.

Timetable:

Action | Date | FR Cite
NPRM | 08/23/11 | 76 FR 52625
NPRM Comment Period End | 11/21/11
Order (Extends Reply Comment Period) | 11/30/11 | 76 FR 74017
NPRM Comment Period End | 12/05/11
FNPRM | 05/24/12 | 77 FR 30972
R&O | 05/24/12 | 77 FR 30915
FNPRM Comment Period End | 07/09/12
Order (Extends Reply Comment Period) | 07/17/12 | 77 FR 41955
FNPRM Comment Period End | 07/20/12
Announcement of Effective Dates | 10/26/12 | 77 FR 65230
Correction of Final Rule | 11/30/12 | 77 FR 71354
Correction of Final Rule | 11/30/12 | 77 FR 71353
NPRM | 08/14/17 | 82 FR 37830
NPRM Comment Period End | 09/13/17
Next Action Undetermined

Regulatory Flexibility Analysis Required: Yes.

Agency Contact: Kimberly Wild, Attorney Advisor, Federal Communications Commission, 445 12th Street SW, Washington, DC 20554, Phone: 202 418-1324, Email: kimberly.wild@fcc.gov.

RIN: 3060-AJ72

261. Misuse of Internet Protocol (IP) Captioned Telephone Service; Telecommunications Relay Services and Speech-to-Speech Services; CG Docket No. 13-24

E.O. 13771 Designation: Independent agency.

Legal Authority: 47 U.S.C. 151; 47 U.S.C. 154; 47 U.S.C. 225

Abstract: The FCC initiated this proceeding in its effort to ensure that internet-Protocol Captioned Telephone Service (IP CTS) is available for eligible users only. In doing so, the FCC adopted rules to address certain practices related to the provision and marketing of IP CTS. IP CTS is a form of relay service designed to allow people with hearing loss to speak directly to another party on a telephone call and to simultaneously listen to the other party and read captions of what that party is saying over an IP-enabled device. To ensure that IP CTS is provided efficiently to persons who need to use this service, the Commission adopted rules establishing several requirements and issued an FNPRM to address additional issues.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13
R&O | 08/30/13 | 78 FR 53684
FNPRM | 09/03/13 | 78FR 54201
FNPRM Comment Period End | 11/18/13
Petition for Reconsideration Request for Comment | 12/16/13 | 78 FR 76097
Petiton for Reconsideration Comment Period End | 01/10/14
Announcement of Effective Date | 07/11/14 | 79 FR 40003
Announcement of Effective Date | 08/28/14 | 79 FR 51446
Correction—Announcement of Effective Date | 08/28/14 | 79 FR 51450
Technical Amendments | 09/09/14 | 79 FR 53303
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AK01

262. Transition From TTY to Real-Time Text Technology (GN Docket No. 15-178; CG Docket No. 1645)

E.O. 13771 Designation: Independent agency.

Legal Authority: Pub. L. 111-260, sec. 106; 47 U.S.C. 154(i); 47 U.S.C. 225; 47 U.S.C. 255; 47 U.S.C. 151; 47 U.S.C. 301; 47 U.S.C. 303(r); 47 U.S.C. 316; 47 U.S.C. 403; 47 U.S.C. 615(c); 47 U.S.C. 616; 47 U.S.C. 617

Abstract: The Commission amended its rules to facilitate a transition from text telephone (TTY) technology to real-time text (RTT) as a reliable and interoperable universal text solution over wireless internet protocol (IP) enabled networks for people who are deaf, hard of hearing, deaf-blind, or have a speech disability. RTT, which allows text characters to be sent as they are being created, can be sent simultaneously with voice, and permits the use of off-the-shelf end user devices to make text telephone calls. The Commission also sought comment on the application of RTT to telecommunications relay services (TRS) and sought further comment on a sunset date for TTY support, as well as other matters pertaining to the deployment of RTT.

Timetable:

Action | Date | FR Cite
NPRM | 05/25/16 | 81 FR 33170
NPRM Comment Period End | 07/25/16
FNPRM | 01/23/17 | 82 FR 7766
R&O | 01/23/17 | 82 FR 7699
Public Notice | 03/16/17 | 82 FR 13972
FNPRM Comment Period End | 03/24/17
Public Notice Comment Period End | 04/10/17
Announcement of Effective Date | 12/21/17 | 82 FR 60562
Next Action Undetermined

Regulatory Flexibility Analysis Required: Yes.

Agency Contact: Michael Scott, Attorney Advisor, Disability Rights Office, Federal Communications Commission, 445 12th Street SW, Washington, DC 20554, Phone: 202 418-1264, Email: michael.scott@fcc.gov.

RIN: 3060-AK58

263. Advanced Methods To Target and Eliminate Unlawful Robocalls; (CG Docket No. 17-59)

E.O. 13771 Designation: Independent agency.

Legal Authority: 47 U.S.C. 201; 47 U.S.C. 202; 47 U.S.C. 227; 47 U.S.C. 251(e)

Abstract: The Telephone Consumer Protection Act of 1991 restricts the use of robocalls autodialed or prerecorded calls in certain instances. In CG Docket No. 17-59, the Commission considers rules and policies aimed at eliminating unlawful robocalling. Among the issues it examines in this docket are whether to allow carriers to block calls that purport to be from unallocated or unassigned phone numbers through the use of spoofing; whether to allow carriers to block calls based on their own analyses of which calls are likely to be unlawful; and whether to establish a database of reassigned phone numbers to help prevent robocalls to consumers who did not consent to such calls.

Timetable:

Action | Date | FR Cite
NPRM/NOI | 05/17/17 | 82 FR 22625
2nd NOI | 07/13/17
NPRM Comment Period End | 07/31/17
FNPRM | 01/08/18 | 83 FR 770
R&O | 01/12/18 | 83 FR 1566
Next Action Undetermined

Regulatory Flexibility Analysis Required: Yes.

Agency Contact: Josh Zeldis, Attorney Advisor, Federal Communications Commission, 445 12th Street SW, Washington, DC 20554, Phone: 202 418-0715, Email: josh.zeldis@fcc.gov.

Karen Schroeder, Attorney Advisor, Federal Communications Commission, 445 12th Street SW, Washington, DC 20554, Phone: 202 418-0654, Email: karen.schroeder@fcc.gov.

Jerusha Burnett, Attorney Advisor, Federal Communications Commission, 445 12th Street SW, Washington, DC 20554, Phone: 202 418-0526, Email: jerusha.burnett@fcc.gov.

RIN: 3060-AK62

FEDERAL COMMUNICATIONS COMMISSION (FCC)

Office of Engineering and Technology

Long-Term Actions

264. Unlicensed Operation in the TV Broadcast Bands (ET Docket No. 04-186)

E.O. 13771 Designation: Independent agency.

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services. (This unused TV spectrum is often termed “white spaces.”) This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary, correct any interference that may occur. The Second Memorandum Opinion and Order finalizes rules to make the unused spectrum in the TV bands available for unlicensed broadband wireless devices. This particular spectrum has excellent propagation characteristics that allow signals to reach farther and penetrate walls and other structures. Access to this spectrum could enable more powerful public internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band, but eventually in other frequency bands as well. This Order addressed five petitions for reconsideration of the Commission's decisions in the Second Memorandum Opinion and Order (“Second MO&O”) in this proceeding and modified rules in certain respects. In particular, the Commission: (1) Increased the maximum height above average terrain (HAAT) for sites where fixed devices may operate; (2) modified the adjacent channel emission limits to specify fixed rather than relative levels; and (3) slightly increased the maximum permissible power spectral density (PSD) for each category of TV bands device. These changes will result in decreased operating costs for fixed TVBDs and allow them to provide greater coverage, thus increasing the availability of wireless broadband services in rural and underserved areas without increasing the risk of interference to incumbent services. The Commission also revised and amended several of its rules to better effectuate the Commission's earlier decisions in this docket and to remove ambiguities.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Petitions for Reconsideration | 02/09/11 | 76 FR 7208
3rd MO&O and Order | 05/17/12 | 77 FR 28236
Next Action Undetermined

Regulatory Flexibility Analysis Required: Yes.

Agency Contact: Hugh Van Tuyl, Electronics Engineer, Federal Communications Commission, Office of Engineering and Technology, 445 12th Street SW, Washington, DC 20554, Phone: 202 418-7506, Fax: 202 418-1944, Email: hugh.vantuyl@fcc.gov.

RIN: 3060-AI52

265. Fixed and Mobile Services in the Mobile Satellite Service (ET Docket No. 10-142)

E.O. 13771 Designation: Independent agency.

Legal Authority: 47 U.S.C. 154(i) and 301; 47 U.S.C. 303(c) and 303(f); 47 U.S.C. 303(r) and 303(y); 47 U.S.C. 310

Abstract: The Notice of Proposed Rulemaking proposed to take a number of actions to further the provision of terrestrial broadband services in the MSS bands. In the 2 GHz MSS band, the Commission proposed to add co-primary Fixed and Mobile allocations to the existing Mobile-Satellite allocation. This would lay the groundwork for providing additional flexibility in use of the 2 GHz spectrum in the future. The Commission also proposed to apply the terrestrial secondary market spectrum leasing rules and procedures to transactions involving terrestrial use of the MSS spectrum in the 2 GHz, Big LEO, and L-bands in order to create greater certainty and regulatory parity with bands licensed for terrestrial broadband service. The Commission also asked, in a notice of inquiry, about approaches for creating opportunities for full use of the 2 GHz band for standalone terrestrial uses. The Commission requested comment on ways to promote innovation and investment throughout the MSS bands while also ensuring market-wide mobile satellite capability to serve important needs like disaster recovery and rural access.

In the Report and Order, the Commission amended its rules to make additional spectrum available for new investment in mobile broadband networks while also ensuring that the United States maintains robust mobile satellite service capabilities. First, the Commission adds co-primary Fixed and Mobile allocations to the Mobile Satellite Service (MSS) 2 GHz band, consistent with the International Table of Allocations, allowing more flexible use of the band, including for terrestrial broadband services, in the future. Second, to create greater predictability and regulatory parity with the bands licensed for terrestrial mobile broadband service, the Commission extends its existing secondary market spectrum manager spectrum leasing policies, procedures, and rules that currently apply to wireless terrestrial services to terrestrial services provided using the Ancillary Terrestrial Component (ATC) of an MSS system. Petitions for Reconsideration have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz, and published pursuant to 47 CFR 1.429(e). See 1.4(b)(1) of the Commission's rules.

Timetable:

Action | Date | FR Cite
NPRM | 08/16/10 | 75 FR 49871
NPRM Comment Period End | 09/15/10 |
Reply Comment Period End | 09/30/10 |
R&O | 05/31/11 | 76 FR 31252
Petitions for Reconsideration | 08/10/11 | 76 FR 49364
Next Action Undetermined

Regulatory Flexibility Analysis Required: Yes.

Agency Contact: Nicholas Oros, Electronics Engineer, Federal Communications Commission, 445 12th Street SW, Washington, DC 20554, Phone: 202 418-0636, Email: nicholas.oros@fcc.gov.

RIN: 3060-AJ46

266. Operation of Radar Systems in the 76-77 GHz Band (ET Docket No. 11-90)

E.O. 13771 Designation: Independent agency.

Legal Authority: 47 U.S.C. 151 to 152; 47 U.S.C. 154(i); 47 U.S.C. 301 to 302; 47 U.S.C. 303(f)

Abstract: The Commission proposed to amend its rules to enable enhanced vehicular radar technologies in the 76-77 GHz band to improve collision avoidance and driver safety. Vehicular radars can determine the exact distance and relative speed of objects in front of, beside, or behind a car to improve the driver's ability to perceive objects under bad visibility conditions or objects that are in blind spots. These modifications to the rules will provide more efficient use of spectrum, and enable the automotive and fixed radar application industries to develop enhanced safety measures for drivers and the general public. The Commission takes this action in response to petitions for rulemaking filed by Toyota Motor Corporation (“TMC”) and Era Systems Corporation (“Era”). The Report and Order amends the Commission's rules to provide a more efficient use of the 76-77 GHz band, and to enable the automotive and aviation industries to develop enhanced safety measures for drivers and the general public. Specifically, the Commission eliminated the in-motion and not-in-motion distinction for vehicular radars, and instead adopted new uniform emission limits for forward, side, and rear-looking vehicular radars. This will facilitate enhanced vehicular radar technologies to improve collision avoidance and driver safety. The Commission also amended its rules to allow the operation of fixed radars at airport locations in the 76-77 GHz band for purposes of detecting foreign object debris on runways and monitoring aircraft and service vehicles on taxiways and other airport vehicle service areas that have no public vehicle access. The Commission took this action in response to petitions for rulemaking filed by Toyota Motor Corporation (“TMC”) and Era Systems Corporation (“Era”). Petitions for Reconsideration were filed by Navtech Radar, Ltd. and Honeywell International Inc.

Navtech Radar, Ltd. and Honeywell International, Inc., filed petitions for reconsideration in response to the Vehicular Radar R&O that modified the Commission's part 15 rules to permit vehicular radar technologies and airport-based fixed radar applications in the 76-77 GHz band.

The Commission denied Honeywell's petition. Section 1.429(b) of the Commission's rules provides three ways in which a petition for reconsideration can be granted, and none of these have been met. Honeywell has not shown that its petition relies on facts regarding fixed radar use which had not previously been presented to the Commission, nor does it show that its petition relies on facts that relate to events that changed since Honeywell had the last opportunity to present its facts regarding fixed radar use.

The Commission stated in the Vehicular Radar R&O, “that no parties have come forward to support fixed radar applications beyond airport locations in this band,” and it decided not to adopt provisions for unlicensed fixed radar use other than those for FOD detection applications at airport locations. Because Navtech first participated in the proceeding when it filed its petition well after the decision was published, its petition fails to meet the timeliness standard of section 1.429(d).

In connection with the Commission's decision to deny the petitions for reconsideration discussed above, the Commission terminates ET Docket Nos. 10-28 and 11-90 (pertaining to vehicular radar).

Timetable:

Action | Date | FR Cite
NPRM | 06/16/11 | 76 FR 35176
R&O | 08/13/12 | 77 FR 48097
Petition for Reconconsideration | 11/11/12 | 77 FR 68722
Reconsideration Order | 03/06/15 | 80 FR 12120
Next Action Undetermined

Regulatory Flexibility Analysis Required: Yes.

Agency Contact: Aamer Zain, Federal Communications Commission, 445 12th Street SW, Washington, DC 20554, Phone: 202 418-2437, Email: aamer.zain@fcc.gov.

RIN: 3060-AJ68

267. Federal Earth Stations—Non-Federal Fixed Satellite Service Space Stations; Spectrum For Non-Federal Space Launch Operations; ET Docket No. 13-115

E.O. 13771 Designation: Independent agency.

Legal Authority: 47 U.S.C. 154; 47 U.S.C. 302(a); 47 U.S.C. 303; 47 U.S.C. 336

Abstract: The Notice of Proposed Rulemaking proposes to make spectrum allocation proposals for three different space-related purposes. The Commission makes two alternative proposals to modify the Allocation Table to provide interference protection for Fixed-Satellite Service (FSS) and Mobile-Satellite Service (MSS) earth stations operated by Federal agencies under authorizations granted by the National Telecommunications and Information Administration (NTIA) in certain frequency bands. The Commission also proposes to amend a footnote to the Allocation Table to permit a Federal MSS system to operate in the 399.9 to 400.05 MHz band; it also makes alternative proposals to modify the Allocation Table to provide access to spectrum on an interference protected basis to Commission licensees for use during the launch of launch vehicles (i.e. rockets). The Commission also seeks comment broadly on the future spectrum needs of the commercial space sector. The Commission expects that, if adopted, these proposals would advance the commercial space industry and the important role it will play in our Nation's economy and technological innovation now and in the future.

Timetable:

Action | Date | FR Cite
NPRM | 07/01/13 | 78 FR 39200
Next Action Undetermined

Regulatory Flexibility Analysis Required: Yes.

Agency Contact: Nicholas Oros, Electronics Engineer, Federal Communications Commission, 445 12th Street SW, Washington, DC 20554, Phone: 202 418-0636, Email: nicholas.oros@fcc.gov.

RIN: 3060-AK09

268. Authorization of Radiofrequency Equipment; ET Docket No. 13-44

E.O. 13771 Designation: Independent agency.

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Commission is responsible for an equipment authorization program for radiofrequency (RF) devices under part 2 of its rules. This program is one of the primary means that the Commission uses to ensure that the multitude of RF devices used in the United States operate effectively without causing harmful interference and otherwise comply with the Commission rules. All RF devices subject to equipment authorization must comply with the Commission's technical requirement before they can be imported or marketed. The Commission or a Telecommunication Certification Body (TCB) must approve some of these devices before they can be imported or marketed, while others do not require such approval. The Commission last comprehensively reviewed its equipment authorization program more than 10 years ago. The rapid innovation in equipment design since that time has led to ever-accelerating growth in the number of parties applying for equipment approval. The Commission therefore believes that the time is now right for us to comprehensively review our equipment authorization processes to ensure that they continue to enable this growth and innovation in the wireless equipment market. In May of 2012, the Commission began this reform process by issuing an Order to increase the supply of available grantee codes. With this Notice of Proposed Rulemaking (NPRM), the Commission continues its work to review and reform the equipment authorization processes and rules. This Notice of Proposed Rulemaking proposes certain changes to the Commission's part 2 equipment authorization processes to ensure that they continue to operate efficiently and effectively. In particular, it addresses the role of TCBs in certifying RF equipment and post-market surveillance, as well as the Commission's role in assessing TCB performance. The NPRM also addressed the role of test laboratories in the RF equipment approval process, including accreditation of test labs and the Commission's recognition of laboratory accreditation bodies, and measurement procedures used to determine RF equipment compliance. Finally, it proposes certain modifications to the rules regarding TCBs that approve terminal equipment under part 68 of the rules that are consistent with our proposed modifications to the rules for TCBs that approve RF equipment. Specifically, the Commission proposes to recognize the National Institute for Standards and Technology (NIST) as the organization that designates TCBs in the United States and to modify the rules to reference the current International Organization for Standardization and International Electrotechnical Commission (ISO/IEC) guides used to accredit TCBs.

This Report and Order updates the Commission's radiofrequency (RF) equipment authorization program to build on the success realized by its use of Commission-recognized Telecommunications Certification Bodies (TCBs). The rules the Commission is adopting will facilitate the continued rapid introduction of new and innovative products to the market while ensuring that these products do not cause harmful interference to each other or to other communications devices and services.

Timetable:

Action | Date | FR Cite
NPRM | 05/03/13 | 78 FR 25916
R&O | 06/12/15 | 80 FR 33425
Memorandum, Opinion & Order | 06/29/16 | 81 FR 42264
Next Action Undetermined

Regulatory Flexibility Analysis Required: Yes.

Agency Contact: Hugh Van Tuyl, Electronics Engineer, Federal Communications Commission, Office of Engineering and Technology, 445 12th Street SW, Washington, DC 20554, Phone: 202 418-7506, Fax: 202 418-1944, Email: hugh.vantuyl@fcc.gov.

RIN: 3060-AK10

269. Operation of Radar Systems in the 76-77 GHz Band (ET Docket No. 15-26)

E.O. 13771 Designation: Independent agency.

Legal Authority: 47 U.S.C. 1; 47 U.S.C. 4(i); 47 U.S.C. 154(i); 47 U.S.C. 302; 47 U.S.C. 303(f); 47 U.S.C. 303(r); 47 U.S.C. 332; 47 U.S.C. 337

Abstract: In this proceeding, the Commission amends its rules to permit vehicular radars and certain non- vehicular fixed and mobile radars used at airports to operate in the entire 76-81 GHz band on an interference- protected basis. Access to the entire 76-81 GHz band is intended to provide sufficient spectrum bandwidth to enable the deployment of wideband high- precision short-range vehicular radar (SRR) applications, such as blind spot detectors, that can enhance the safety of drivers and other road users, while continuing to allow the deployment of proven long-range vehicular radar (LRR) applications, such as adaptive cruise control. The amended rules also permit the deployment in airport air operations areas of fixed and mobile radars that detect foreign object debris (FOD) on runways, which could harm aircraft on take-off and landing, and aircraft- mounted radars that can help aircraft avoid colliding with equipment, buildings, and other aircraft while moving on airport grounds. In addition, the amended rules allow for the continued shared use of the 76-81 GHz band by other incumbent users, including amateur radio operators and the scientific research community.

Timetable:

Action | Date | FR Cite
NPRM | 03/06/15 | 80 FR 12120
NPRM Comment Period End | 04/06/15 |
NPRM Reply Comment Period End | 04/20/15 |
R&O | 09/20/17 | 82 FR 43865
Next Action Undetermined

Regulatory Flexibility Analysis Required: Yes.

Agency Contact: Aamer Zain, Federal Communications Commission, 445 12th Street SW, Washington, DC 20554, Phone: 202 418-2437, Email: aamer.zain@fcc.gov.

RIN: 3060-AK29

270. Spectrum Access for Wireless Microphone Operations (GN Docket Nos. 14-166 and 12-268)

E.O. 13771 Designation: Independent agency.

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Notice of Proposed Rule Making initiated a proceeding to address how to accommodate the long-term needs of wireless microphone users. Wireless microphones play an important role in enabling broadcasters and other video programming networks to serve consumers, including as they cover breaking news and broadcast live sports events. They enhance event productions in a variety of settings including theaters and music venues, film studios, conventions, corporate events, houses of worship, and internet webcasts. They also help create high quality content that consumers demand and value. Recent actions by the Commission, and in particular the repurposing of broadcast television band spectrum for wireless services set forth in the Incentive Auction R&O, will significantly alter the regulatory environment in which wireless microphones operate, which necessitates our addressing how to accommodate wireless microphone users in the future.

In the Report and Order, the Commission takes several steps to accommodate the long-term needs of wireless microphone users. Wireless microphones play an important role in enabling broadcasters and other video programming networks to serve consumers, including as they cover breaking news and live sports events. They enhance event productions in a variety of settings including theaters and music venues, film studios, conventions, corporate events, houses of worship, and internet webcasts. They also help create high quality content that consumers demand and value. In particular, the Commission provide additional opportunities for wireless microphone operations in the TV bands following the upcoming incentive auction, and the Commission provide new opportunities for wireless microphone operations to access spectrum in other frequency bands where they can share use of the bands without harming existing users.

In the Order on Reconsideration, we address the four petitions for reconsideration of the Wireless Microphones R&O concerning licensed wireless microphone operations in the TV bands, the 600 MHz duplex gap,” and several other frequency bands, as well as three petitions for reconsideration of the TV Bands part 15 R&O concerning unlicensed wireless microphone operations in the TV bands, the 600 MHz guard bands and duplex gap, and the 600 MHz service band. Because these petitions involve several overlapping technical and operational issues concerning wireless microphones, we consolidate our consideration of them in this one order.

In the Further Notice, we propose to permit certain professional theater, music, performing arts, or similar organizations that operate wireless microphones on an unlicensed basis and that meet certain criteria to obtain a part 74 license to operate in the TV bands (and the 600 MHz service band during the post-auction transition period), thereby allowing them to register in the white spaces databases for interference protection from unlicensed white space devices at venues where their events/productions are performed. In addition, we propose to permit these same users, based on demonstrated need, also to obtain a part 74 license to operate on other bands available for use by Part 74 wireless microphone licensees provided that they meet the applicable requirements for operating in those bands.

Timetable:

Action | Date | FR Cite
NPRM | 11/21/14 | 79 FR 69387
NPRM Comment Period End | 01/05/15
NPRM Reply Comment Period End | 01/26/15
R&O | 11/17/15 | 80 FR 71702
FNPRM | 09/01/17 | 82 FR 41583
Order on Recon | 09/01/17 | 82 FR 41549
Next Action Undetermined

Regulatory Flexibility Analysis Required: Yes.

Agency Contact: Paul Murray, Attorney Advisor, Federal Communications Commission, Office of Engineering and Technology, 445 12th Street SW, Washington, DC 20554, Phone: 202 418-0688, Fax: 202 418-7447, Email: paul.murray@fcc.gov.

RIN: 3060-AK30

FEDERAL COMMUNICATIONS COMMISSION (FCC)

International Bureau

Long-Term Actions

271. International Settlements Policy Reform (IB Docket No. 11-80)

E.O. 13771 Designation: Independent agency.

Legal Authority: 47 U.S.C. 151 to 152; 47 U.S.C. 154; 47 U.S.C. 201 to 205; 47 U.S.C. 208; 47 U.S.C. 211; 47 U.S.C. 214; 47 U.S.C. 303(r); 47 U.S.C. 309; 47 U.S.C. 403

Abstract: The FCC is reviewing the International Settlements Policy (ISP). It governs how U.S. carriers negotiate with foreign carriers for the exchange of international traffic, and is the structure by which the Commission has sought to respond to concerns that foreign carriers with market power are able to take advantage of the presence of multiple U.S. carriers serving a particular market. In 2011, the FCC released an NPRM which proposed to further deregulate the international telephony market and enable U.S. consumers to enjoy competitive prices when they make calls to international destinations. First, it proposed to remove the ISP from all international routes, except Cuba. Second, the FCC sought comment on a proposal to enable the Commission to better protect U.S. consumers from the effects of anticompetitive conduct by foreign carriers in instances necessitating Commission intervention. In 2012, the FCC adopted a Report and Order which eliminated the ISP on all routes, but maintained the nondiscrimination requirement of the ISP on the U.S.-Cuba route and codified it at 47 CFR 63.22(f). In the Report and Order the FCC also adopted measures to protect U.S. consumers from anticompetitive conduct by foreign carriers. In 2016, the FCC released an FNPRM seeking comment on removing the discrimination requirement on the U.S.-Cuba route.

Timetable:

Action | Date | FR Cite
NPRM | 05/13/11 | 76 FR 42625
NPRM Comment Period End | 09/02/11
Report and Order | 02/15/13 | 78 FR 11109
FNPRM | 03/04/16 | 81 FR 11500
FNPRM Comment Period End | 04/18/16
Next Action Undetermined

Regulatory Flexibility Analysis Required: Yes.

Agency Contact: David Krech, Assoc. Chief, Telecommunications & Analysis Division, Federal Communications Commission, International Bureau, 445 12th Street SW, Washington, DC 20554, Phone: 202 418-7443, Fax: 202 418-2824, Email: david.krech@fcc.gov.

RIN: 3060-AJ77

272. Comprehensive Review of Licensing and Operating Rules for Satellite Services (IB Docket No. 12-267)

E.O. 13771 Designation: Independent agency.

Legal Authority: 47 U.S.C. 154(i); 47 U.S.C. 157(a); 47 U.S.C. 161; 47 U.S.C. 303(c); 47 U.S.C. 303(g); 47 U.S.C. 303(r)

Abstract: The Commission adopted a Notice of Proposed Rulemaking (NPRM) to initiate a comprehensive review of part 25 of the Commission's rules, which governs the licensing and operation of space stations and earth stations. The Commission proposed amendments to modernize the rules to better reflect evolving technology, to eliminate unnecessary technical and information filing requirements, and to reorganize and simplify existing requirements. In the ensuing Report and Order, the Commission adopted most of its proposed changes and revised more than 150 rule provisions. Several proposals raised by commenters in the proceeding, however, were not within the scope of the original NPRM. To address these and other issues, the Commission released a Further Notice of Proposed Rulemaking (FNPRM). The FNPRM proposed additional rule changes to facilitate international coordination of proposed satellite networks, to revise system implementation milestones and the associated bond, and to expand the applicability of routine licensing standards. Following the FNPRM, the Commission issued a Second Report and Order adopting most of its proposals in the FNPRM. Among other changes, the Commission established a two-step licensing procedure for most geostationary satellite applicants to facilitate international coordination, simplified the satellite development milestones, adopted an escalating bond requirement to discourage speculation, and refined the two-degree orbital spacing policy for most geostationary satellites to protect existing services. In addition, in May 2016, the International Bureau published a Public Notice inviting comment on the appropriate implementation schedule for a Carrier Identification requirement adopted in the first Report and Order in this proceeding. In July 2017, the Commission adopted a waiver of the Carrier Identification requirement for certain earth stations that cannot be suitably upgraded.

Timetable:

Action | Date | FR Cite
NPRM | 11/08/12 | 77 FR 67172
NPRM Comment Period End | 02/13/13
Report and Order | 02/12/14 | 79 FR 8308
FNPRM | 10/31/14 | 79 FR 65106
FNPRM Comment Period End | 03/02/15
Public Notice | 05/31/16 | 81 FR 34301
2nd R&O | 08/18/16 | 81 FR 55316
Next Action Undetermined

Regulatory Flexibility Analysis Required: Yes.

Agency Contact: Clay DeCell, Attorney Advisor, Federal Communications Commission, 445 12th Street SW, Washington, DC 20554, Phone: 202 418-0803, Email: clay.decell@fcc.gov.

RIN: 3060-AJ98

273. Update to Parts 2 and 25 Concerning Nongeostationary, Fixed-Satellite Service Systems and Related Matters; IB Docket No. I6-408

E.O. 13771 Designation: Independent agency.

Legal Authority: 47 U.S.C. 154(i); 47 U.S.C. 303; 47 U.S.C. 316

Abstract: On January 11, 2017, the Commission began a rulemaking to update its rules and policies concerning non-geostationary-satellite orbit (NGSO), fixed-satellite service (FSS) systems and related matters. The proposed changes would, among other things, provide for more flexible use of the 17.8-20.2 GHz bands for FSS, promote shared use of spectrum among NGSO FSS satellite systems, and remove unnecessary design restrictions on NGSO FSS systems. The Commission subsequently adopted a Report and Order establishing new sharing criteria among NGSO FSS systems and providing additional flexibility for FSS spectrum use. The Commission also released a Further Notice of Proposed Rulemaking proposing to remove the domestic coverage requirement for NGSO FSS systems.

Timetable:

Action | Date | FR Cite
NPRM | 01/11/17 | 82 FR 3258
NPRM Comment Period End | 04/10/17
FNPRM | 11/15/17 | 82 FR 52869
R&O | 12/18/17 | 82 FR 59972
FNPRM Comment Period End | 01/02/18
Next Action Undetermined

Regulatory Flexibility Analysis Required: Yes.

Agency Contact: Clay DeCell, Attorney Advisor, Federal Communications Commission, 445 12th Street SW, Washington, DC 20554, Phone: 202 418-0803, Email: clay.decell@fcc.gov.

RIN: 3060-AK59

FEDERAL COMMUNICATIONS COMMISSION (FCC)

Media Bureau

Long-Term Actions

274. Broadcast Ownership Rules

E.O. 13771 Designation: Independent agency.

Legal Authority: 47 U.S.C. 151; 47 U.S.C. 152(a); 47 U.S.C. 154(i); 47 U.S.C. 303; 47 U.S.C. 307; 47 U.S.C. 309 and 310

Abstract: Section 202(h) of the Telecommunications Act of 1996 requires the Commission to review its ownership rules every four years and determine whether any such rules are necessary in the public interest as the result of competition. Accordingly, every four years, the Commission undertakes a comprehensive review of its broadcast multiple and cross-ownership limits examining: Cross-ownership of TV and radio stations; local TV ownership limits; national TV cap; and dual network rule. The last review undertaken was the 2014 review. The Commission incorporated the record of the 2010 review, and sought additional data on market conditions and competitive indicators. The Commission also sought comment on whether to eliminate restrictions on newspaper/radio combined ownership and whether to eliminate the radio/television cross-ownership rule in favor of reliance on the local radio rule and the local television rule. In 2016, the Commission retained the existing rules with modifications to account for the digital television transition. Upon reconsideration, repealed and modified several ownership rules. Specifically repealed were the newspaper/broadcast cross-ownership rule, the radio/television cross-ownership rule, and the attributions rule for television joint-sales agreements.

Timeline:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Reconsideration | 02/21/08 | 73 FR 9481
Notice of Inquiry | 06/11/10 | 75 FR 33227
NPRM | 01/19/12 | 77 FR 2868
NPRM Comment Period End | 03/19/12
FNPRM | 05/20/14 | 79 FR 29010
2nd R&O | 11/01/16 | 81 FR 76220
Order on Reconsideration | 01/08/18 | 83 FR 733
Next Action Undetermined

Regulatory Flexibility Analysis Required: Yes.

Agency Contact: Brendan Holland, Chief, Industry Analysis Division, Media Bureau, Federal Communications Commission, 445 12th Street SW, Washington, DC 20554, Phone: 202 418-2757, Email: brendan.holland@fcc.gov.

RIN: 3060-AH97

275. Promoting Diversification of Ownership in the Broadcast Services (MB Docket Nos. 07-294 AN 17-289)

E.O. 13771 Designation: Independent agency.

Legal Authority: 47 U.S.C. 151; 47 U.S.C. 152(a); 47 U.S.C. 154(i) and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and Third FNPRM, measures are enacted to increase participation in the broadcasting industry by new entrants and small businesses, including minority- and women-owned businesses. In the Report and Order and Fourth FNPRM, the Commission adopts improvements to its data collection in order to obtain an accurate and comprehensive assessment of minority and female broadcast ownership in the United States. In 2016, the Commission made improvements to the collection of data reported on Forms 323 and 323-E. On reconsideration in 2017, the Commission provided NCE filers with alternative means to file required Form 323-E without submitting personal information.

Pursuant to a remand from the Third Circuit, the measures adopted in the 2009 Diversity Order were put forth for comment in the NPRM for the 2010 review of the Commission's Broadcast Ownership rules. The Commission sought additional comment in 2014. The Commission addressed the remand in the 2016 Second Report and Order in the Broadcast Ownership proceeding. The Commission developed a revenue-based definition of eligible entity in order to promote small business participation in the broadcast industry. The Commission failed to adopt a race or gender conscious eligible entity standard. The Commission found the record was not sufficient to satisfy the constitutional standards to adopt race or gender conscious measures. In the 2017 Notice of Proposed Rulemaking, the Commission seeks comment on an incubatior program to promote ownership diversity.

Timeline:

Action | Date | FR Cite
R&O | 05/16/08 | 73 FR 28361
Third FNPRM | 05/16/08 | 73 FR 28400
R&O | 05/27/09 | 74 FR 25163
Fourth FNPRM | 05/27/09 | 74 FR 25305
MO&O | 10/30/09 | 74 FR 56131
NPRM | 01/19/12 | 77 FR 2868
5th NPRM | 01/15/13 | 78 FR 2934
6th FNPRM | 01/15/13 | 78 FR 2925
FNPRM | 05/20/14 | 79 FR 29010
7th FNPRM | 02/26/15 | 80 FR 10442
Comment Period End | 03/30/15
Reply Comment Period End | 04/30/15
R&O | 04/04/16 | 81 FR 19432
2nd R&O | 11/01/16 | 81 FR 76220
Order on Recon | 05/10/17 | 82 FR 21718
NPRM | 01/08/18 | 83 FR 774
Next Action Undetermined

Regulatory Flexibility Analysis Required: Yes.

Agency Contact: Brendan Holland, Chief, Industry Analysis Division, Media Bureau, Federal Communications Commission, 445 12th Street SW, Washington, DC 20554, Phone: 202 418-2757, Email: brendan.holland@fcc.gov.

RIN: 3060-AJ27

276. Closed Captioning of Internet Protocol-Delivered Video Programming: Implementation of the Twenty-First Century Communications and Video Accessibility Act of 2010 (MB Docket No. 11-154)

E.O. 13771 Designation: Independent agency.

Legal Authority: 47 U.S.C. 154(i); 47 U.S.C. 154(j); 47 U.S.C. 303; 47 U.S.C. 330(b); 47 U.S.C. 613; 47 U.S.C. 617

Abstract: Pursuant to the Commission's responsibilities under the Twenty-First Century Communications and Video Accessibility Act of 2010, this proceeding was initiated to adopt rules to govern the closed captioning requirements for the owners, providers, and distributors of video programming delivered using internet protocol.

Timetable:

Action | Date | FR Cite
NPRM | 09/28/11 | 76 FR 59963
R&O | 03/20/12 | 77 FR 19480
Order on Recon, FNPRM | 07/02/13 | 78 FR 39691
2nd Order on Recon | 08/05/14 | 79 FR 45354
2nd FNPRM | 08/05/14 | 79 FR 45397
Next Action Undetermined

Regulatory Flexibility Analysis Required: Yes.

Agency Contact: Maria Mullarkey, Attorney, Policy Division, Media Bureau, Federal Communications Commission, 445 12th Street SW, Washington, DC 20554, Phone: 202 418-1067, Email: maria.mullarkey@fcc.gov.

RIN: 3060-AJ67

277. Authorizing Permissive Use of the “Next Generation” Broadcast Television Standard (GN Docket No. 16-142)

E.O. 13771 Designation: Independent agency.

Legal Authority: 47 U.S.C. 151; 47 U.S.C. 154; 47 U.S.C. 157; 47 U.S.C. 301; 47 U.S.C. 303; 47 U.S.C. 307; 47 U.S.C. 308; 47 U.S.C. 309; 47 U.S.C. 316; 47 U.S.C. 319; 47 U.S.C. 325(b); 47 U.S.C. 336; 47 U.S.C. 399(b); 47 U.S.C. 403; 47 U.S.C. 534; 47 U.S.C. 535

Abstract: In this proceeding, the Commission seeks to authorize television broadcasters to use the “Next Generation” ATSC 3.0 broadcast television transmission standard on a voluntary, market-driven basis, while they continue to deliver current-generation digital television broadcast service to their viewers. In the Report and Order, the Commission adopted rules to afford broadcasters flexibility to deploy ATSC 3.0-based transmissions, while minimizing the impact on, and costs to, consumers and other industry stakeholders.

The FNPRM sought comment on three topics: (1) Issues related to the local simulcasting requirement, (2) whether to let broadcasters use vacant channels in the broadcast band, and (3) the import of the Next Gen standard on simulcasting stations.

Timetable:

Action | Date | FR Cite
NPRM | 03/10/17 | 82 FR 13285
NPRM Comment Period End | 05/09/17
FNPRM | 12/20/17 | 82 FR 60350
R&O | 02/02/18 | 83 FR 4998
FNPRM Comment Period End | 02/20/18
FNPRM Reply Comment Period End | 03/20/18
Next Action Undetermined

Regulatory Flexibility Analysis Required: Yes.

Agency Contact: Evan Baranoff, Attorney, Policy Division, Federal Communications Commission, Media Bureau, 445 12th Street SW, Washington, DC 20554, Phone: 202 418-7142, Email: evan.baranoff@fcc.gov.

RIN: 3060-AK56

278. Elimination of Main Studio Rule; (MB Docket No. 17-106)

E.O. 13771 Designation: Independent agency.

Legal Authority: 47 U.S.C. 154(i) ; 47 U.S.C. 154(j); 47 U.S.C. 303; 47 U.S.C. 307(b); 47 U.S.C. 336(f)

Abstract: In this proceeding, the Commission to eliminated its rule requiring each AM, FM, and television broadcast station to maintain a main studio located in or near its community of license.

Timetable:

Action | Date | FR Cite
NPRM | 06/02/17 | 82 FR 25590
NPRM Comment Period End | 07/03/17
R&O | 12/08/17 | 82 FR 57876
Next Action Undetermined

Regulatory Flexibility Analysis Required: Yes.

Agency Contact: Diana Sokolow, Attorney, Policy Division, Federal Communications Commission, Media Bureau, 445 12th Street SW, Washington, DC 20554, Phone: 202 418-2120, Email: diana.sokolow@fcc.gov.

RIN: 3060-AK61

279. • Amendment of 47 CFR 73.624(g) Regarding Submission of FCC Form 2100 and 47 CFR 73.3580 Regarding Public Notice of the Filing of Broadcast Application (MB Docket No. 17-264)

E.O. 13771 Designation: Independent agency.

Legal Authority: 47 U.S.C. 151

Abstract: In this proceeding, the Commission considers how to modernize two provisions in Part 73 of the Commission's rules governing broadcast licensees: 47 CFR 73.624(g), which establishes certain reporting obligations relating to the provision of ancillary or supplementary services, and 47 CFR 73.3580, which sets forth requirements concerning public notice of the filing of broadcast applications. Specifically, the Commission seeks comment on relieving certain television broadcasters of the obligation to submit FCC Form 2100, Schedule G, which is used to report information about the provision of ancillary or supplementary services. Also, the Commission seeks comment on whether to update or repeal 47 CFR 73.3580 to afford broadcast applicants more flexibility in how they provide required notices.

Timetable:

Action | Date | FR Cite
NPRM | 11/29/17 | 82 FR 56574
NPRM Comment Period End | 12/29/17
Next Action Undetermined

Regulatory Flexibility Analysis Required: Yes.

Agency Contact: Martha Heller, Chief, Policy, Media Bureau, Federal Communications Commission, 445 12th Street SW, Washington, DC 20554, Phone: 202 418-2120, Email: martha.heller@fcc.gov.

RIN: 3060-AK68

280. • FCC Form 325 Data Collection (MB Docket No. 17-290)

E.O. 13771 Designation: Independent agency.

Legal Authority: 47 U.S.C. 151

Abstract: In this proceeding, the Commission seeks comment on whether to eliminate Form 325, Annual Report of Cable Television Systems, or, in the alternative, on ways to modernize and streamline the form. Form 325 collects operational information from cable television systems nationwide, including their network structure, system-wide capacity, programming, and number of subscribers.

Timetable:

Action | Date | FR Cite
NPRM | 12/12/17 | 82 FR 58365
NPRM Comment Period End | 02/12/18
Next Action Undetermined

Regulatory Flexibility Analysis Required: Yes.

Agency Contact: Martha Heller, Chief, Policy, Media Bureau, Federal Communications Commission, 445 12th Street SW, Washington, DC 20554, Phone: 202 418-2120, Email: martha.heller@fcc.gov.

RIN: 3060-AK69

281. • Electronic Delivery of MVPD Communications (MB Docket No. 17-317)

E.O. 13771 Designation: Independent agency.

Legal Authority: 47 U.S.C. 151

Abstract: In this proceeding, the Commission addresses ways to modernize certain notice provisions in Part 76 of the Commission's rules governing multichannel video and cable television service. The Commission considers allowing various types of written communications from cable operators to subscribers to be delivered electronically. Additionally, the Commission considers permitting cable operators to reply to consumer requests or complaints by email in certain circumstances. Then Commission also evaluates updating the requirement in the Commission's rules that requires broadcast television stations to send carriage election notices via certified mail.

Timetable:

Action | Date | FR Cite
NPRM | 01/16/18 | 83 FR 2119
NPRM Comment Period End | 02/15/18
Next Action Undetermined

Regulatory Flexibility Analysis Required: Yes.

Agency Contact: Martha Heller, Chief, Policy, Media Bureau, Federal Communications Commission, 445 12th Street SW, Washington, DC 20554, Phone: 202 418-2120, Email: martha.heller@fcc.gov.

RIN: 3060-AK70

282. • Filing of Paper Broadcast Contracts (MB Docket No. 18-4)

E.O. 13771 Designation: Independent agency.

Legal Authority: 47 U.S.C. 151

Abstract: In this proceeding, the Commission considers whether and how to modernize Section 73.3613 of the Commission's rules, which requires each licensee or permittee of a commercial and noncommercial AM, FM, television, or international broadcast station to file certain contracts and other documents with the Commission within 30 days after execution.

Timetable:

Action | Date | FR Cite
NPRM (release date) | 01/30/18
Next Action Undetermined

Regulatory Flexibility Analysis Required: Yes.

Agency Contact: Brendan Holland, Chief, Industry Analysis Division, Media Bureau, Federal Communications Commission, 445 12th Street SW, Washington, DC 20554, Phone: 202 418-2757, Email: brendan.holland@fcc.gov.

RIN: 3060-AK71

FEDERAL COMMUNICATIONS COMMISSION (FCC)

Office of Managing Director

Long-Term Actions

283. Assessment and Collection of Regulatory Fees for Fiscal Year 2017; MD Docket No. 17-134

E.O. 13771 Designation: Independent agency.

Legal Authority: 47 U.S.C. 159

Abstract: Section 9 of the Communications Act of 1934, as amended, 47 U.S.C. 159, requires the FCC to recover the cost of its activities by assessing and collecting annual regulatory fees from beneficiaries of the activities.

Timetable:

Action | Date | FR Cite
NPRM | 06/06/17 | 82 FR 26019
R&O | 09/22/17 | 82 FR 44322
Next Action Undetermined

Regulatory Flexibility Analysis Required: Yes.

Agency Contact: Roland Helvajian, Office of the Managing Director, Federal Communications Commission, 445 12th Street SW, Washington, DC 20554, Phone: 202 418-0444, Email: roland.helvajian@fcc.gov.

RIN: 3060-AK64

FEDERAL COMMUNICATIONS COMMISSION (FCC)

Public Safety and Homeland Security Bureau

Long-Term Actions

284. Enhanced 911 Services for Wireline and Multi-Line Telephone Systems; PS Docket Nos. 10-255 and 07-114

E.O. 13771 Designation: Independent agency.

Legal Authority: 47 U.S.C. 151; 47 U.S.C. 154(i); 47 U.S.C. 201; 47 U.S.C. 222; 47 U.S.C. 251

Abstract: The policies set forth in the Report and Order will assist State governments in drafting legislation that will ensure that multi-line telephone systems are compatible with the enhanced 911 network. The public notice seeks comment on whether the Commission, rather than States, should regulate multiline telephone systems and whether part 68 of the Commission's rules should be revised.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05
NOI | 01/13/11 | 76 FR 2297
NOI Comment Period End | 03/14/11
Public Notice (Release Date) | 05/21/12
Public Notice Comment Period End | 08/06/12
Next Action Undetermined

Regulatory Flexibility Analysis Required: Yes.

Agency Contact: Brenda Boykin, Attorney Advisor, Public Safety and Homeland Security Bureau, Federal Communications Commission, 445 12th Street SW, Washington, DC 20554, Phone: 202 418-2062, Email: brenda.boykin@fcc.gov.

RIN: 3060-AG60

285. Commission Rules Concerning Disruptions to Communications (PS Docket No. 11-82)

E.O. 13771 Designation: Independent agency.

Legal Authority: 47 U.S.C. 155; 47 U.S.C. 154; 47 U.S.C. 201; 47 U.S.C. 251

Abstract: The 2004 Report and Order extended the Commission's outage reporting requirements to non-wireline carriers and streamlined reporting through a new electronic template. A Further Notice of Proposed Rulemaking regarding the unique communications needs of airports also remains pending. The 2012 Report and Order extended the Commission's outage reporting requirements to interconnected Voice over internet Protocol (VOIP) services where there is a complete loss of connectivity that has the potential to affect at least 900,000 user minutes. Interconnected VoIP services providers must now file outage reports through the same electronic mechanism as providers of other services. The Commission indicated that the technical issues involved in identifying and reporting significant outages of broadband internet services require further study. In May 2016, the Commission released a Report and Order, FNPRM, and Order on Reconsideration (see also dockets 04-35 and 15-80). The FNPRM proposed rules to extend part 4 outage reporting to broadband services. Comments and replies were received by the Commission in August and September 2016.

Timetable:

Action | Date | FR Cite
NPRM | 03/26/04 | 69 FR 15761
FNPRM | 11/26/04 | 69 FR 68859
R&O | 12/03/04 | 69 FR 70316
Announcement of Effective Date and Partial Stay | 12/30/04 | 69 FR 78338
Petition for Reconsideration | 02/15/05 | 70 FR 7737
Amendment of Delegated Authority | 02/21/08 | 73 FR 9462
Public Notice | 08/02/10
NPRM | 06/09/11 | 76 FR 33686
NPRM Comment Period End | 08/08/11
R&O | 04/27/12 | 77 FR 25088
Final Rule; Correction | 01/30/13 | 78 FR 6216
R&O | 07/12/16 | 81 FR 45055
FNPRM | 07/12/16 | 81 FR 45095
Order Denying Reply Comment Deadline Extension Request | 09/08/16
FNPRM Comment Period End | 09/12/16
Announcement of Effective Date for Rule Changes in R&O | 06/22/17 | 82 FR 28410
Next Action Undetermined

Regulatory Flexibility Analysis Required: Yes.

Agency Contact: Robert Finley, Attorney Advisor, Public Safety and Homeland Security Bureau, Federal Communications Commission, 445 12th Street SW, Washington, DC 20554, Phone: 202 418-7835, Email: robert.finley@fcc.gov.

RIN: 3060-AI22

286. Wireless E911 Location Accuracy Requirements; PS Docket No. 07-114

E.O. 13771 Designation: Independent agency.

Legal Authority: 47 U.S.C. 151; 47 U.S.C. 154; 47 U.S.C. 332

Abstract: This is related to the proceedings in which the FCC has previously acted to improve the quality of all emergency services. Wireless carriers must provide specific automatic location information in connection with 911 emergency calls to Public Safety Answering Points (PSAPs). Wireless licensees must satisfy Enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14
Public Notice (Release Date) | 11/20/14
Public Notice Comment Period End | 12/17/14
4th R&O | 03/04/15 | 80 FR 11806
Final Rule | 08/03/15 | 80 FR 45897
Order Granting Waiver | 07/10/17
Next Action Undetermined

Regulatory Flexibility Analysis Required: Yes.

Agency Contact: Timothy May, Public Safety and Homeland Security Bureau, Federal Communications Commission, 445 12th Street SW, Washington, DC 20554, Phone: 202 418-1463, Email: timothy.may@fcc.gov.

RIN: 3060-AJ52

287. Proposed Amendments to Service Rules Governing Public Safety Narrowband Operations in the 769-775 and 799-805 MHz Bands; PS Docket No. 13-87

E.O. 13771 Designation: Independent agency.

Legal Authority: 47 U.S.C. 151; 47 U.S.C. 160; 47 U.S.C. 201; 47 U.S.C. 303; 47 U.S.C. 337(a); 47 U.S.C. 403

Abstract: This proceeding seeks to amend the Commission's rules to promote spectrum efficiency, interoperability, and flexibility in 700 MHz public safety narrowband operations (769-775 and 799-805 MHz).

Timetable:

Action | Date | FR Cite
NPRM | 04/19/13 | 78 FR 23529
Final Rule | 12/20/14 | 79 FR 71321
Final Rule Effective | 01/02/15
FNPRM | 09/29/16 | 81 FR 65984
Order on Recon | 09/29/16 | 81 FR 66830
Next Action Undetermined

Regulatory Flexibility Analysis Required: Yes.

Agency Contact: Brian Marenco, Electronics Engineer, Federal Communications Commission, 445 12th Street SW, Washington, DC 20554, Phone: 202 418-0838, Email: brian.marenco@fcc.gov.

RIN: 3060-AK19

288. Improving Outage Reporting for Submarine Cables and Enhancing Submarine Cable Outage Data; GN Docket No. 15-206

E.O. 13771 Designation: Independent agency.

Legal Authority: 47 U.S.C. 151; 47 U.S.C. 154; 47 U.S.C. 34 to 39; 47 U.S.C. 301

Abstract: This proceeding takes steps toward assuring the reliability and resiliency of submarine cables, a critical piece of the Nation's communications infrastructure, by proposing to require submarine cable licensees to report to the Commission when outages occur and communications are disrupted. The Commission's intent is to enhance national security and emergency preparedness by these actions.

Timetable:

Action | Date | FR Cite
NPRM (Release Date) | 09/17/15
R&O | 06/24/16 | 81 FR 52354
Petitions for Recon | 09/08/16
Petitions for Recon—Public Comment | 10/31/16 | 81 FR 75368
Next Action Undetermined

Regulatory Flexibility Analysis Required: Yes.

Agency Contact: Merritt Baer, Attorney Advisor, Public Safety and Homeland Security Bureau, Federal Communications Commission, 445 12th Street SW, Washington, DC 20554, Phone: 202 418-7095, Email: merritt.baer.com.

RIN: 3060-AK39

289. Amendments to Part 4 of the Commission's Rules Concerning Disruptions to Communications; PS Docket No. 15-80

E.O. 13771 Designation: Independent agency.

Legal Authority: 47 CFR 0; 47 CFR 4; 47 CFR 63

Abstract: The 2004 Report and Order extended the Commission's communication disruptions reporting rules to non-wireline carriers and streamlined reporting through a new electronic template (see docket ET Docket 04-35). In 2015, this proceeding, PS Docket 15-80, was opened to amend the original communications disruption reporting rules from 2004 in order to reflect technology transitions observed throughout the telecommunications sector. The Commission seeks to further study the possibility to share the reporting database information and access with State and other Federal entities. In May 2016, the Commission released a Report and Order, FNPRM, and Order on Reconsideration (see also dockets 11-82 & 04-35). The R&O adopted rules to update the part 4 requirements to reflect technology transitions. The FNPRM sought comment on sharing information in the reporting database. Comments and replies were received by the Commission in August and September 2016.

Timetable:

Action | Date | FR Cite
NPRM | 06/16/15 | 80 FR 34321
NPRM Comment Period End | 07/31/15
FNPRM | 07/12/16 | 81 FR 45095
R&O | 07/12/16 | 81 FR 45055
FNPRM Comment Period End | 09/12/16
Order Denying Reply Comment Deadline Extension Request | 09/18/16
Announcement of Effective Date for Rule Changes in R&O | 06/22/17 | 82 FR 28410
Next Action Undetermined

Regulatory Flexibility Analysis Required: Yes.

Agency Contact: Robert Finley, Attorney Advisor, Public Safety and Homeland Security Bureau, Federal Communications Commission, 445 12th Street SW, Washington, DC 20554, Phone: 202 418-7835, Email: robert.finley@fcc.gov.

RIN: 3060-AK40

290. New Part 4 of the Commission's Rules Concerning Disruptions to Communications; ET Docket No. 04-35

E.O. 13771 Designation: Independent agency.

Legal Authority: 47 U.S.C. 154 to 155; 47 U.S.C. 201; 47 U.S.C. 251; 47 U.S.C. 307; 47 U.S.C. 316

Abstract: The proceeding creates a new part 4 in title 47, and amends part 63.100. The proceeding updates the Commission's communication disruptions reporting rules for wireline providers formerly found in 47 CFR 63.100, and extends these rules to other non-wireline providers. Through this proceeding, the Commission streamlines the reporting process through an electronic template. The Report and Order received several petitions for reconsideration, of which two were eventually withdrawn. In 2015, seven were addressed in an Order on Reconsideration and in 2016 another petition was addressed in an Order on Reconsideration. One petition (CPUC Petition) remains pending regarding NORS database sharing with states, which is addressed in a separate proceeding, PS Docket 15-80. To the extent the communication disruption rules cover VoIP, the Commission studies and addresses these questions in a separate docket, PS Docket 11-82.

In May 2016, the Commission released a Report and Order, FNPRM, and Order on Reconsideration (see dockets 11-82 & 15-80). The Order on Reconsideration addressed outage reporting for events at airports, and the FNPRM sought comment on database sharing. Comments and replies were received by the Commission in August and September 2016.

Timetable:

Action | Date | FR Cite
NPRM | 03/26/04 | 69 FR 15761
R&O | 11/26/04 | 69 FR 68859
Denial for Petition for Partial Stay | 12/02/04
Seek Comment on Petition for Recon | 02/02/10
Reply Period End | 03/19/10
Seek Comment on Broadband and Interconnected VOIP Service Providers | 07/02/10
Reply Period End | 08/16/12
R&O and Order on Recon | 06/16/15 | 80 FR 34321
FNPRM | 07/12/16 | 81 FR 45095
R&O | 07/12/16 | 81 FR 45055
Order Denying Extension of Time to File Reply Comments | 09/08/16
Announcement of Effective Date for Rule Changes in R&O | 06/22/17 | 82 FR 28410
Next Action Undetermined

Regulatory Flexibility Analysis Required: Yes.

Agency Contact: Robert Finley, Attorney Advisor, Public Safety and Homeland Security Bureau, Federal Communications Commission, 445 12th Street SW, Washington, DC 20554, Phone: 202 418-7835, Email: robert.finley@fcc.gov.

RIN: 3060-AK41

291. Wireless Emergency Alerts (WEA); PS Docket No. 15-91

E.O. 13771 Designation: Independent agency.

Legal Authority: Public Law 109-347, title VI; 47 U.S.C. 151; 47 U.S.C. 154(i)

Abstract: This proceeding was initiated to improve WEA messaging, ensure that WEA alerts reach only those individuals to whom they are relevant, and establish an end-to-end testing program based on advancements in technology.

Timetable:

Action | Date | FR Cite
NPRM | 11/19/15 | 80 FR 77289
NPRM Comment Period End | 01/13/16
NPRM Reply Comment Period End | 02/12/16
Order | 11/01/16 | 81 FR 75710
FNPRM | 11/08/16 | 81 FR 78539
Comment Period End | 12/08/16
Reply Comment Period End | 01/07/17
Next Action Undetermined

Regulatory Flexibility Analysis Required: Yes.

Agency Contact: Lisa Fowlkes, Bureau Chief, Federal Communications Commission, Public Safety and Homeland Security Bureau, 445 12th Street SW, Washington, DC 20554, Phone: 202 418-7452, Email: lisa.fowlkes@fcc.gov.

RIN: 3060-AK54

292. Blue Alert EAS Event Code

E.O. 13771 Designation: Independent agency.

Legal Authority: 47 U.S.C. 151 and 152; 47 U.S.C. 154(i) and 154(o); 47 U.S.C. 301; 47 U.S.C. 303(r) and (v); 47 U.S.C. 307; 47 U.S.C. 309 ; 47 U.S.C. 335; 47 U.S.C. 403; 47 U.S.C.544(g); 47 U.S.C. 606 and 615

Abstract: In 2015, Congress adopted the Blue Alert Act to help the States provide effective alerts to the public and law enforcement when police and other law enforcement officers are killed or are in danger. To ensure that these state plans are compatible and integrated throughout the United States as envisioned by the Blue Alert Act, the Blue Alert Coordinator made a series of recommendations in a 2016 Report to Congress. Among these recommendations, the Blue Alert Coordinator identified the need for a dedicated EAS event code for Blue Alerts, and noted the alignment of the EAS with the implementation of the Blue Alert Act. On June 22, 2017, the FCC released an NPRM proposing to revise the EAS rules to adopt a new event code, which would allow transmission of “Blue Alerts” to the public over the EAS, and thus satisfy the stated need for a dedicated EAS event code.

Timetable:

Action | Date | FR Cite
NPRM | 06/30/17 | 82 FR 29811
NPRM Comment Period End | 07/31/17
NPRM Reply Comment Period End | 08/29/17
Next Action Undetermined

Regulatory Flexibility Analysis Required: Yes.

Agency Contact: Linda Pintro, Attorney Advisor, Policy and Licensing Division, PSHSB, Federal Communications Commission, 445 12th Street SW, Washington, DC 21043, Phone: 202 418-7490, Email: linda.pintro@fcc.gov.

Gregory Cooke, Deputy Chief, Policy and Licensing Division, PSHSB, Federal Communications Commission, 445 12th Street SW, Washington, DC 20554, Phone: 202 418-2351, Email: gregory.cooke@fcc.gov.

RIN: 3060-AK63

FEDERAL COMMUNICATIONS COMMISSION (FCC)

Wireless Telecommunications Bureau

Long-Term Actions

293. Review of Part 87 of the Commission's Rules Concerning Aviation (WT Docket No. 01-289)

E.O. 13771 Designation: Independent agency.

Legal Authority: 47 U.S.C. 154; 47 U.S.C. 303; 47 U.S.C. 307(e)

Abstract: This proceeding is intended to streamline, consolidate, and revise our part 87 rules governing the Aviation Radio Service. The rule changes are designed to ensure these rules reflect current technological advances.

Timetable:

Action | Date | FR Cite
NPRM | 10/16/01 | 66 FR 64785
NPRM Comment Period End | 03/14/02 |
R&O and FNPRM | 10/16/03 |
FNPRM | 04/12/04 | 69 FR 19140
FNPRM Comment Period End | 07/12/04 |
R&O | 06/14/04 | 69 FR 32577
NPRM | 12/06/06 | 71 FR 70710
NPRM Comment Period End | 03/06/07 |
Final Rule | 12/06/06 | 71 FR 70671
3rd R&O | 03/29/11 | 76 FR 17347
Stay Order | 03/29/11 | 76 FR 17353
3rd FNPRM | 01/30/13 | 78 FR 6276
Next Action Undetermined

Regulatory Flexibility Analysis Required: Yes.

Agency Contact: Jeff Tobias, Attorney Advisor, Federal Communications Commission, Wireless Telecommunications Bureau, 445 12th Street SW, Washington, DC 20554, Phone: 202 418-0680, Email: jeff.tobias@fcc.gov.

RIN: 3060-AI35

294. Amendment of Part 101 of the Commission's Rules for Microwave Use and Broadcast Auxiliary Service Flexibility

E.O. 13771 Designation: Independent agency.

Legal Authority: 47 U.S.C. 151 and 152; 47 U.S.C. 154(i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipoint communications.

Timetable:

Action | Date | FR Cite
NPRM | 08/05/10 | 75 FR 52185
NPRM Comment Period End | 11/22/10 |
R&O | 09/27/11 | 76 FR 59559
FNPRM | 09/27/11 | 76 FR 59614
FNPRM Comment Period End | 10/25/11 |
R&O | 09/05/12 | 77 FR 54421
FNPRM | 09/05/12 | 77 FR 54511
FNPRM Comment Period End | 10/22/12 |
Next Action Undetermined

Regulatory Flexibility Analysis Required: Yes.

Agency Contact: John Schauble, Deputy Chief, Broadband Division, Federal Communications Commission, Wireless Telecommunications Bureau, 445 12th Street SW, Washington, DC 20554, Phone: 202 418-0797, Email: john.schauble@fcc.gov.

RIN: 3060-AJ47

295. Universal Service Reform Mobility Fund (WT Docket No. 10-208)

E.O. 13771 Designation: Independent agency.

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding establishes the Mobility Fund which provides an initial infusion of funds toward solving persistent gaps in mobile services through targeted, one-time support for the build-out of current and next-generation wireless infrastructure in areas where these services are unavailable.

Timetable:

Action | Date | FR Cite
NPRM | 10/14/10 | 75 FR 67060
NPRM Comment Period End | 01/18/11 |
R&O | 11/29/11 | 76 FR 73830
FNPRM | 12/16/11 | 76 FR 78384
R&O | 12/28/11 | 76 FR 81562
2nd R&O | 07/03/12 | 77 FR 39435
4th Order on Recon | 08/14/12 | 77 FR 48453
FNPRM | 07/09/14 | 79 FR 39196
R&O, Declaratory Ruling, Order, MO&O, and 7th Order on Recon | 07/09/14 | 79 FR 39163
FNPRM Comment Period End | 09/08/14 |
R&O | 10/07/16 | 81 FR 69696
FNPRM | 10/07/16 | 81 FR 69772
FNPRM | 03/13/17 | 82 FR 13413
R&O | 03/28/17 | 82 FR 15422
R&O Correction | 04/04/17 | 82 FR 16297
Order on Recon and 2nd R&O | 09/08/17 | 82 FR 42473
2nd Order on Recon (release date) | 02/27/18 |
Next Action Undetermined

Regulatory Flexibility Analysis Required: Yes.

Agency Contact: Audra Hale-Maddox, Attorney Advisor, Federal Communications Commission, 445 12th Street SW, Washington, DC 20554, Phone: 202 418-2109, Email: audra.hale-maddox@fcc.gov.

RIN: 3060-AJ58

296. Expanding the Economic and Innovation Opportunities of Spectrum Through Incentive Auctions (GN Docket No. 12-268)

E.O. 13771 Designation: Independent agency.

Legal Authority: 47 U.S.C. 309(j)(8)(G); 47 U.S.C. 1452

Abstract: In February 2012, the Middle Class Tax Relief and Job Creation Act was enacted (Pub. L. 112-96, 126 Stat. 156 (2012)). Title VI of that statute, commonly known as the Spectrum Act, provides the Commission with the authority to conduct incentive auctions to meet the growing demand for wireless broadband. Pursuant to the Spectrum Act, the Commission may conduct incentive auctions that will offer new initial spectrum licenses subject to flexible-use service rules on spectrum made available by licensees that voluntarily relinquish some or all of their spectrum usage rights in exchange for a portion, based on the value of the relinquished rights as determined by an auction, of the proceeds of bidding for the new licenses. In addition to granting the Commission general authority to conduct incentive auctions, the Spectrum Act requires the Commission to conduct an incentive auction of broadcast TV spectrum and sets forth special requirements for such an auction.

The Spectrum Act requires that the incentive auction consist of a reverse auction “to determine the amount of compensation that each broadcast television licensee would accept in return for voluntarily relinquishing some or all of its spectrum usage rights and a forward auction” that would allow mobile broadband providers to bid for licenses in the reallocated spectrum. Broadcast television licensees who elected to voluntarily participate in the auction had three basic options: voluntarily go off the air, share spectrum, or move channels in exchange for receiving part of the proceeds from auctioning that spectrum to wireless providers.

In June 2014, the Commission adopted a Report and Order that laid out the general framework for the incentive auction. The incentive auction started on March 29, 2016, with the submission of initial commitments by eligible broadcast licensees that had submitted timely and complete applications. The incentive auction officially ended on April 13, 2017, with the release of the Auction Closing and Channel Reassignment Public Notice that also marked the start of the 39-month transition period during which broadcasters will transition their stations to their post-auction channel assignments in the reorganized television bands.

Timetable:

Action | Date | FR Cite
NPRM | 11/21/12 | 77 FR 69933
R&O | 08/15/14 | 79 FR 48441
Final Rule | 10/11/17 | 82 FR 47155
Next Action Undetermined

Regulatory Flexibility Analysis Required: Yes.

Agency Contact: Rachel Kazan, Federal Communications Commission, 445 12th Street SW, Washington, DC 20554, Phone: 202 418-1500, Email: rachel.kazan@fcc.gov.

RIN: 3060-AJ82

297. Amendment of Parts 1, 2, 22, 24, 27, 90 and 95 of the Commission's Rules To Improve Wireless Coverage Through the Use of Signal Boosters (WT Docket No. 10-4)

E.O. 13771 Designation: Independent agency.

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters. It creates two classes of signal boosters—consumer and industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Reconsideration | 06/06/13 | 78 FR 34015
Order on Reconsideration | 11/08/14 | 79 FR 70790
FNPRM | 11/28/14 | 79 FR 70837
Next Action Undetermined

Regulatory Flexibility Analysis Required: Yes.

Agency Contact: Amanda Huetinck, Attorney Advisor, WTB, Federal Communications Commission, 445 12th Street SW, Washington, DC 20554, Phone: 202 418-7090, Email: amanda.huetinck@fcc.gov.

RIN: 3060-AJ87

298. Promoting Technological Solutions To Combat Wireless Contraband Device Use in Correctional Facilities; GN Docket No. 13-111

E.O. 13771 Designation: Independent agency.

Legal Authority: 47 U.S.C. 151 to 152; 47 U.S.C. 154(i); 47 U.S.C. 154(j); 47 U.S.C. 301; 47 U.S.C. 303(a); 47 U.S.C. 303(b); 47 U.S.C. 307 to 310; 47 U.S.C. 332; 47 U.S.C. 302(a)

Abstract: In the Report and Order, the Commission addresses the problem of illegal use of contraband wireless devices by inmates in correctional facilities by streamlining the process of deploying contraband wireless device interdiction systems (CIS)—systems that use radio communications signals requiring Commission authorization—in correctional facilities. In particular, the Commission eliminates certain filing requirements and provides for immediate approval of the lease applications needed to operate these systems.

In the Further Notice, the Commission seeks comment on a process for wireless providers to disable contraband wireless devices once they have been identified. The Commission also seeks comment on additional methods and technologies that might prove successful in combating contraband device use in correctional facilities, and on various other proposals related to the authorization process for CISs and their deployment.

Timetable:

Action | Date | FR Cite
NPRM | 06/18/13 | 78 FR 36469
NPRM Comment Period End | 08/08/13 |
FNPRM | 05/18/17 | 82 FR 22780
R&O | 05/18/17 | 82 FR 22742
Final Rule Effective (except for rules requiring OMB approval) | 06/19/17 |
FNPRM Comment Period End | 07/17/17 |
Final Rule Effective for 47 CFR 1.9020(n), 1.9030(m), 1.9035(o), and 20.23(a) | 10/20/17 | 82 FR 48773
Final Rule Effective for 47 CFR 1.902(d)(8), 1.9035(d)(4), 20.18(a), and 20.18(r) | 02/12/18 |
Next Action Undetermined

Regulatory Flexibility Analysis Required: Yes.

Agency Contact: Melissa Conway, Attorney Advisor, Mobility Div., Wireless Bureau, Federal Communications Commission, 445 12th Street SW, Washington, DC 20554, Phone: 202 418-2887, Email: melissa.conway@fcc.gov.

RIN: 3060-AK06

299. Promoting Investment in the 3550-3700 MHz Band; GN Docket No. 17-258

E.O. 13771 Designation: Independent agency.

Legal Authority: 47 U.S.C. 151 to 152; 47 U.S.C. 154(i); 47 U.S.C. 154(j); 47 U.S.C. 302(a); 47 U.S.C. 303 to 304; 47 U.S.C. 307(e); 47 U.S.C. 316

Abstract: The Report and Order and Second Further Notice of Proposed Rulemaking adopted by the Commission established a new Citizens Broadband Radio Service for shared wireless broadband use of the 3550 to 3700 MHz band. The Citizens Broadband Radio Service is governed by a three-tiered spectrum authorization framework to accommodate a variety of commercial uses on a shared basis with incumbent Federal and non-Federal users of the band. Access and operations will be managed by a dynamic spectrum access system. The three tiers are: Incumbent Access, Priority Access, and General Authorized Access. Rules governing the Citizens Broadband Radio Service are found in part 96 of the Commission's rules.

The Order on Reconsideration and Second Report and Order addressed several Petitions for Reconsideration submitted in response to the Report and Order and resolved the outstanding issues raised in the Second Further Notice of Proposed Rulemaking.

The 2017 NPRM sought comment on limited changes to the rules governing Priority Access Licenses in the band, adjacent channel emissions limits, and public release of base station registration information.

Timetable:

Action | Date | FR Cite
NPRM | 01/08/13 | 78 FR 1188
NPRM Comment Period End | 03/19/13 |
FNPRM | 06/02/14 | 79 FR 31247
FNPRM Comment Period End | 08/15/14 |
R&O and 2nd FNPRM | 06/15/15 | 80 FR 34119
2nd FNPRM Comment Period End | 08/14/15 |
Order on Recon and 2nd R&O | 07/26/16 | 81 FR 49023
NPRM | 11/28/17 | 82 FR 56193
NPRM Comment Period End | 01/29/18 |
Next Action Undetermined

Regulatory Flexibility Analysis Required: Yes.

Agency Contact: Paul Powell, Assistant Chief, Mobility Division, WTB, Federal Communications Commission, 445 12th Street SW, Washington, DC 20554, Phone: 202 418-1613, Email: paul.powell@fcc.gov.

RIN: 3060-AK12

300. 800 MHz Cellular Telecommunications Licensing Reform; Docket No. 12-40

E.O. 13771 Designation: Independent agency.

Legal Authority: 47 U.S.C. 151 to 152; 47 U.S.C. 154(i) to 154(j); 47 U.S.C. 301 to 303; 47 U.S.C. 307 to 309; 47 U.S.C. 332

Abstract: The proceeding was launched to modernize rules governing the 800 MHz Cellular Radiotelephone Service (Cellular Service). On November 10, 2014, the FCC released a Report and Order (R&O) and a companion Further Notice of Proposed Rulemaking (FNPRM). In the R&O, the FCC eliminated or streamlined numerous regulatory requirements, while retaining Cellular licensees' ability to expand into areas not yet licensed. In the FNPRM, the FCC proposed and sought comment on additional reforms, including the Cellular radiated power and related technical rules, to promote flexibility and help foster deployment of new technologies such as LTE. On March 24, 2017, the FCC released a Second R&O and a companion Second FNPRM. In the Second R&O, the FCC revised the Cellular radiated power rules to permit compliance with limits based on power spectral density (PSD) as an option for licensees deploying wideband technologies such as LTE, while retaining the existing non-PSD limits for licensees that deploy narrowband technologies. This ensures that carriers are treated similarly regardless of technology choice, and aligns the Cellular power rules with those used to provide mobile broadband in other service bands. The Second R&O also made conforming changes to Cellular technical rules to accommodate PSD, and adopted additional licensing reforms. In the Second FNPRM, the FCC seeks comment on other measures to give Cellular licensees more flexibility and administrative relief, and on ways to consolidate and clarify the rules for the Cellular Service as well as other geographically licensed wireless services.

Timetable:

Action | Date | FR Cite
NPRM | 03/16/12 | 77 FR 15665
NPRM Comment Period End | 05/15/12 |
NPRM Reply Comment Period End | 06/14/12 |
R&O | 12/05/14 | 79 FR 72143
FNPRM | 12/22/14 | 79 FR 76268
Final Rule Effective (with 3 exceptions) | 01/05/15 |
FNPRM Comment Period End | 01/21/15 |
FNPRM Reply Comment Period End | 02/20/15 |
2nd R&O | 04/12/17 | 82 FR 17570
2nd FNPRM | 04/14/17 | 82 FR 17959
Final Rule Effective (with 7 exceptions) | 05/02/17 |
2nd FNPRM Comment Period End | 05/15/17 |
2nd FNPRM Reply Comment Period End | 06/14/17 |
Final Rule Effective | 12/01/17 |
Next Action Undetermined

Regulatory Flexibility Analysis Required: Yes.

Agency Contact: Nina Shafran, Attorney Advisor, Wireless Bureau, Mobility Div., Federal Communications Commission, 445 12th Street SW, Washington, DC 20554, Phone: 202 418-2781, Email: nina.shafran@fcc.gov.

RIN: 3060-AK13

301. Updating Part 1 Competitive Bidding Rules (WT Docket No. 14-170)

E.O. 13771 Designation: Independent agency.

Legal Authority: 47 U.S.C. 151; 47 U.S.C. 154(i); 47 U.S.C. 303(r); 47 U.S.C. 309(j); 47 U.S.C. 316

Abstract: This proceeding was initiated to revise some of the Commission's general part 1 rules governing competitive bidding for spectrum licenses to reflect changes in the marketplace, including the challenges faced by new entrants, as well as to advance the statutory directive to ensure that small businesses, rural telephone companies, and businesses owned by members of minority groups and women are given the opportunity to participate in the provision of spectrum-based services. In July 2015, the Commission revised its competitive bidding rules, specifically adopting revised requirements for eligibility for bidding credits, a new rural service provider bidding credit, a prohibition on joint bidding agreements and other changes.

Timetable:

Action | Date | FR Cite
NPRM | 11/14/14 | 79 FR 68172
Public Notice | 03/16/15 | 80 FR 15715
Public Notice | 04/23/15 | 80 FR 22690
R&O | 09/18/15 | 80 FR 56764
Public Notice on Petitions for Reconsideration | 11/10/15 | 80 FR 69630
Order on Recon | To Be Determined

Regulatory Flexibility Analysis Required: Yes.

Agency Contact: Kelly Quinn, Assistant Chief, Auctions and Spectrum Access Division, Federal Communications Commission, 445 12th Street SW, Washington, DC 20554, Phone: 202 418-0660, Email: kelly.quinn@fcc.gov.

RIN: 3060-AK28

302. Use of Spectrum Bands Above 24 GHz for Mobile Services—Spectrum Frontiers; WT Docket 10-112

E.O. 13771 Designation: Independent agency.

Legal Authority: 47 U.S.C. 151 to 154; 47 U.S.C. 157; 47 U.S.C. 160; 47 U.S.C. 201; 47 U.S.C. 225; 47 U.S.C. 227; 47 U.S.C. 301 to 302; 47 U.S.C. 302(a); 47 U.S.C. 303 to 304; 47 U.S.C. 307; 47 U.S.C. 309 to 310; 47 U.S.C. 316; 47 U.S.C. 319; 47 U.S.C. 332; 47 U.S.C. 336; 47 U.S.C. 1302

Abstract: In this proceeding, the Commission adopted service rules for licensing of mobile and other uses for millimeter wave (mmW) bands. These high frequencies previously have been best suited for satellite or fixed microwave applications; however, recent technological breakthroughs have newly enabled advanced mobile services in these bands, notably including very high speed and low latency services. This action will help facilitate Fifth Generation mobile services and other mobile services. In developing service rules for mmW bands, the Commission will facilitate access to spectrum, develop a flexible spectrum policy, and encourage wireless innovation.

Timetable:

Action | Date | FR Cite
NPRM | 01/13/16 | 81 FR 1802
NPRM Comment Period End | 02/26/16 |
FNPRM | 08/24/16 | 81 FR 58269
Comment Period End | 09/30/16 |
FNPRM Reply Comment Period End | 10/31/16 |
R&O | 11/14/16 | 81 FR 79894
R&O | 01/02/18 | 83 FR 37
FNPRM | 01/02/18 | 83 FR 85
FNPRM Comment Period End | 01/23/18 |
Next Action Undetermined

Regulatory Flexibility Analysis Required: Yes.

Agency Contact: John Schauble, Deputy Chief, Broadband Division, Federal Communications Commission, Wireless Telecommunications Bureau, 445 12th Street SW, Washington, DC 20554, Phone: 202 418-0797, Email: john.schauble@fcc.gov.

RIN: 3060-AK44

FEDERAL COMMUNICATIONS COMMISSION (FCC)

Wireline Competition Bureau

Long-Term Actions

303. Telecommunications Carriers' Use of Customer Proprietary Network Information and Other Customer Information (CC Docket No. 96-115)

E.O. 13771 Designation: Independent agency.

Legal Authority: 47 U.S.C. 151; 47 U.S.C. 154; 47 U.S.C. 222; 47 U.S.C. 272; 47 U.S.C. 303(r)

Abstract: The Commission adopted rules implementing the new statutory framework governing carrier use and disclosure of customer proprietary network information (CPNI) created by section 222 of the Communications Act of 1934, as amended. CPNI includes, among other things, to whom, where, and when a customer places a call, as well as the types of service offerings to which the customer subscribes and the extent to which the service is used.

Timetable:

Action | Date | FR Cite
NPRM | 05/28/96 | 61 FR 26483
Public Notice | 02/25/97 | 62 FR 8414
Second R&O and FNPRM | 04/24/98 | 63 FR 20364
Order on Recon | 10/01/99 | 64 FR 53242
Final Rule, Announcement of Effective Date | 01/26/01 | 66 FR 7865
Clarification Order and Second NPRM | 09/07/01 | 66 FR 50140
Third R&O and Third FNPRM | 09/20/02 | 67 FR 59205
NPRM | 03/15/06 | 71 FR 13317
NPRM | 06/08/07 | 72 FR 31782
Final Rule, Announcement of Effective Date | 06/08/07 | 72 FR 31948
Public Notice | 07/13/12 | 77 FR 35336
Inactive per Maura McGowan | 10/02/17 |
Final Rule | 09/21/17 | 82 FR 44188
Next Action Undetermined

Regulatory Flexibility Analysis Required: Yes.

Agency Contact: Melissa Kirkel, Attorney Advisor, Federal Communications Commission, Wireline Competition Bureau, 445 12th Street SW, Washington, DC 20554, Phone: 202 418-7958, Fax: 202 418-1413, Email: melissa.kirkel@fcc.gov.

RIN: 3060-AG43

304. Numbering Resource Optimization

E.O. 13771 Designation: Independent agency.

Legal Authority: 47 U.S.C. 151; 47 U.S.C. 154; 47 U.S.C. 201 et seq.; 47 U.S.C. 251(e)

Abstract: In 1999, the Commission released the Numbering Resource Optimization Notice of Proposed Rulemaking (Notice) in CC Docket 99-200. The Notice examined and sought comment on several administrative and technical measures aimed at improving the efficiency with which telecommunications numbering resources are used and allocated. It incorporated input from the North American Numbering Council (NANC), a Federal advisory committee, which advises the Commission on issues related to number administration. In the Numbering Resource Optimization First Report and Order and Further Notice of Proposed Rulemaking (NRO First Report and Order), released on March 31, 2000, the Commission adopted a mandatory utilization data reporting requirement, a uniform set of categories of numbers for which carriers must report their utilization, and a utilization threshold framework to increase carrier accountability and incentives to use numbers efficiently. In addition, the Commission adopted a single system for allocating numbers in blocks of 1,000, rather than 10,000, wherever possible, and established a plan for national rollout of thousands-block number pooling. The Commission also adopted numbering resource reclamation requirements to ensure that unused numbers are returned to the North American Numbering Plan (NANP) inventory for assignment to other carriers. Also, to encourage better management of numbering resources, carriers are required, to the extent possible, to first assign numbering resources within thousands blocks (a form of sequential numbering). In the NRO Second Report and Order, the Commission adopted a measure that requires all carriers to use at least 60 percent of their numbering resources before they may get additional numbers in a particular area. That 60 percent utilization threshold increases to 75 percent over the next three years. The Commission also established a five-year term for the national pooling administrator and an auditing program to verify carrier compliance with the Commission's rules. Furthermore, the Commission addressed several issues raised in the notice, concerning area code relief. Specifically, the Commission declined to amend the existing Federal rules for area code relief or specify any new Federal guidelines for the implementation of area code relief. The Commission also declined to state a preference for either all-services overlays or geographic splits as a method of area code relief. Regarding mandatory nationwide ten-digit dialing, the Commission declined to adopt this measure at the present time. Furthermore, the Commission declined to mandate nationwide expansion of the “D digit” (the “N” of an NXX or central office code) to include zero or one, or to grant State commissions the authority to implement the expansion of the “D” digit as a numbering resource optimization measure presently. In the NRO Third Report and Order, the Commission addressed national thousands-block number pooling administration issues, including declining to alter the implementation date for covered CMRS carriers to participate in pooling. The Commission also addressed Federal cost recovery for national thousands-block number pooling, and continued to require States to establish cost recovery mechanisms for costs incurred by carriers participating in pooling trials. The Commission reaffirmed the Months-To-Exhaust (MTE) requirement for carriers. The Commission declined to lower the utilization threshold established in the Second Report and Order, and declined to exempt pooling carriers from the utilization threshold. The Commission also established a safety valve mechanism to allow carriers that do not meet the utilization threshold in a given rate center to obtain additional numbering resources. In the NRO Third Report and Order, the Commission lifted the ban on technology-specific overlays (TSOs), and delegated authority to the Common Carrier Bureau, in consultation with the Wireless Telecommunications Bureau, to resolve any such petitions. Furthermore, the Commission found that carriers who violate our numbering requirements, or fail to cooperate with an auditor conducting either a “for cause” or random audit, should be denied numbering resources in certain instances. The Commission also reaffirmed the 180-day reservation period, declined to impose fees to extend the reservation period, and found that State commissions should be allowed password-protected access to the NANPA database for data pertaining to NPAs located within their State. The measures adopted in the NRO orders will allow the Commission to monitor more closely the way numbering resources are used within the NANP, and will promote more efficient allocation and use of NANP resources by tying a carrier's ability to obtain numbering resources more closely to its actual need for numbers to serve its customers. These measures are designed to create national standards to optimize the use of numbering resources by: (1) Minimizing the negative impact on consumers of premature area code exhausts; (2) ensuring sufficient access to numbering resources for all service providers to enter into or to compete in telecommunications markets; (3) avoiding premature exhaust of the NANP; (4) extending the life of the NANP; (5) imposing the least societal cost possible, and ensuring competitive neutrality, while obtaining the highest benefit; (6) ensuring that no class of carrier or consumer is unduly favored or disfavored by the Commission's optimization efforts; and (7) minimizing the incentives for carriers to build and carry excessively large inventories of numbers. In NRO Third Order on Recon in CC Docket No. 99-200, Third Further Notice of Proposed Rulemaking in CC Docket No. 99-200 and Second Further Notice of Proposed Rulemaking in CC Docket No. 95-116, the Commission reconsidered its findings in the NRO Third Report and Order regarding the local Number portability (LNP) and thousands-block number pooling requirements for carriers in the top 100 Metropolitan Statistical areas (MSAs). Specifically, the Commission reversed its clarification that those requirements extend to all carriers in the largest 100 MSAs, regardless of whether they have received a request from another carrier to provide LNP. The Commission also sought comment on whether the Commission should again extend the LNP requirements to all carriers in the largest 100 MSAs, regardless of whether they receive a request to provide LNP. The Commission also sought comment on whether all carriers in the top 100 MSAs should be required to participate in thousands-block number pooling, regardless of whether they are required to be LNP capable. In addition, the Commission sought comment on whether all MSAs included in Combined Metropolitan Statistical Areas (CMSAs) on the Census Bureau's list of the largest 100 MSAs should be included on the Commission's list of the top 100 MSAs. In the NRO Fourth Report and Order and Further Notice of Proposed Rulemaking, the Commission reaffirmed that carriers must deploy LNP in switches within the 100 largest Metropolitan Statistical Areas (MSAs) for which another carrier has made a specific request for the provision of LNP. The Commission delegated the authority to state commissions to require carriers operating within the largest 100 MSAs that have not received a specific request for LNP from another carrier to provide LNP, under certain circumstances and on a case-by-case basis. The Commission concluded that all carriers, except those specifically exempted, are required to participate in thousands-block number pooling in accordance with the national rollout schedule, regardless of whether they are required to provide LNP, including commercial mobile radio service (CMRS) providers that were required to deploy LNP as of November 24, 2003. The Commission specifically exempted from the pooling requirement rural telephone companies and Tier III CMRS providers that have not received a request to provide LNP. The Commission also exempted from the pooling requirement carriers that are the only service provider receiving numbering resources in a given rate center. Additionally, the Commission sought further comment on whether these exemptions should be expanded to include carriers where there are only two service providers receiving numbering resources in the rate center. Finally, the Commission reaffirmed that the 100 largest MSAs identified in the 1990 U.S. Census reports, as well as those areas included on any subsequent U.S. Census report of the 100 largest MSAs. In the NRO Order and Fifth Further Notice of Proposed Rulemaking, the Commission granted petitions for delegated authority to implement mandatory thousands-block pooling filed by the Public Service Commission of West Virginia, the Nebraska Public Service Commission, the Oklahoma Corporation Commission, the Michigan Public Service Commission, and the Missouri Public Service Commission. In granting these petitions, the Commission permitted these states to optimize numbering resources and further extend the life of the specific numbering plan areas. In the Further Notice of Proposed Rulemaking, the Commission sought comment on whether it should delegate authority to all states to implement mandatory thousands-block number pooling consistent with the parameters set forth in the NRO Order.

In its 2013 Notice of Proposed Rulemaking, the Commission proposed to allow interconnected Voice over internet Protocol (VOIP) providers to obtain telephone numbers directly from the North American Numbering Plan Administrator and the Pooling Administrator, subject to certain requirements. The Commission also sought comment on a forward-looking approach to numbers for other types of providers and uses, including telematics and public safety, and the benefits and number exhaust risks of granting providers other than interconnected VoIP providers direct access.

In its 2015 Report and Order, the Commission established an authorization process to enable interconnected VoIP providers that choose to obtain access to North American Numbering Plan telephone numbers directly from the North American Numbering Plan Administrator and/or the Pooling Administrator (Numbering Administrators), rather than through intermediaries. The Order also set forth several conditions designed to minimize number exhaust and preserve the integrity of the numbering system. Specifically, the Commission required interconnected VoIP providers obtaining numbers to comply with the same requirements applicable to carriers seeking to obtain numbers. The requirements included any state requirements pursuant to numbering authority delegated to the states by the Commission, as well as industry guidelines and practices, among others. The Commission also required interconnected VoIP providers to comply with facilities readiness requirements adapted to this context, and with numbering utilization and optimization requirements. In addition, as conditions to requesting and obtaining numbers directly from the Numbering Administrators, the Commission required interconnected VoIP providers to (1) provide the relevant State commissions with regulatory and numbering contacts when requesting numbers in those states, (2) request numbers from the Numbering Administrators under their own unique OCN, (3) file any requests for numbers with the relevant state commissions at least 30 days prior to requesting numbers from the Numbering Administrators, and (4) provide customers with the opportunity to access all abbreviated dialing codes (N11 numbers) in use in a geographic area. Finally, the Order also modified Commission's rules in order to permit VoIP Positioning Center providers to obtain pseudo-Automatic Number Identification codes directly from the Numbering Administrators for purposes of providing E911 services.

Timetable:

Action | Date | FR Cite
NPRM | 06/17/99 | 64 FR 32471
R&O and FNPRM | 06/16/00 | 65 FR 37703
Second R&O and Second FNPRM | 02/08/01 | 66 FR 9528
Third R&O and Second Order on Recon | 02/12/02 | 67 FR 643
Third O on Recon and Third FNPRM | 04/05/02 | 67 FR 16347
Fourth R&O and Fourth NPRM | 07/21/03 | 68 FR 43003
Order and Fifth FNPRM | 03/15/06 | 71 FR 13393
Order | 06/19/13 | 78 FR 36679
NPRM & NOI | 06/19/13 | 78 FR 36725
R&O | 10/29/15 | 80 FR 66454
Next Action Undetermined

Regulatory Flexibility Analysis Required: Yes.

Agency Contact: Marilyn Jones, Senior Counsel, Federal Communications Commission, Wireline Competition Bureau, 445 12th Street SW, Washington, DC 20554, Phone: 202 418-2357, Fax: 202 418-2345, Email: marilyn.jones@fcc.gov.

RIN: 3060-AH80

305. Jurisdictional Separations

E.O. 13771 Designation: Independent agency.

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze on the part 36 category relationships and jurisdictional cost allocation factors for a period of five years, pending comprehensive reform of the part 36 separations rules. In 2006, the Commission adopted an Order and Further Notice of Proposed Rulemaking, which extended the separations freeze for a period of three years and sought comment on comprehensive reform. In 2009, the Commission adopted a Report and Order extending the separations freeze an additional year to June 2010. In 2010, the Commission adopted a Report and Order extending the separations freeze for an additional year to June 2011. In 2011, the Commission adopted a Report and Order extending the separations freeze for an additional year to June 2012. In 2012, the Commission adopted a Report and Order extending the separations freeze for an additional two years to June 2014. In 2014, the Commission adopted a Report and Order extending the separations freeze for an additional three years to June 2017.

Timetable:

Action | Date | FR Cite
NPRM | 11/05/97 | 62 FR 59842
NPRM Comment Period End | 12/10/97 |
Order | 06/21/01 | 66 FR 33202
Order and FNPRM | 05/26/06 | 71 FR 29882
Order and FNPRM Comment Period End | 08/22/06 |
R&O | 05/15/09 | 74 FR 23955
R&O | 05/25/10 | 75 FR 30301
R&O | 05/27/11 | 76 FR 30840
R&O | 05/23/12 | 77 FR 30410
R&O | 06/13/14 | 79 FR 36232
FNPRM | To Be Determined

Regulatory Flexibility Analysis Required: Yes.

Agency Contact: John Hunter, Attorney-Advisor, Federal Communications Commission, 445 12th Street SW, Washington, DC 20554, Phone: 202 418-1520, Email: john.hunter@fcc.gov.

RIN: 3060-AJ06

306. Development of Nationwide Broadband Data To Evaluate Reasonable and Timely Deployment of Advanced Services to All Americans

E.O. 13771 Designation: Independent agency.

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
NPRM | 08/03/17 | 82 FR 40118
Next Action Undetermined

Regulatory Flexibility Analysis Required: Yes.

Agency Contact: Chelsea Fallon, Assistant Division Chief, Federal Communications Commission, 445 12th Street SW, Washington, DC 20554, Phone: 202 418-7991, Email: chelsea.fallon@fcc.gov.

RIN: 3060-AJ15

307. Local Number Portability Porting Interval and Validation Requirements (WC Docket No. 07-244)

E.O. 13771 Designation: Independent agency.

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Public Notice | 12/21/11 | 76 FR 79607
Public Notice | 06/06/13 | 78 FR 34015
R&O | 05/26/15 | 80 FR 29978
Next Action Undetermined

Regulatory Flexibility Analysis Required: Yes.

Agency Contact: Melissa Kirkel, Attorney Advisor, Federal Communications Commission, Wireline Competition Bureau, 445 12th Street SW, Washington, DC 20554, Phone: 202 418-7958, Fax: 202 418-1413, Email: melissa.kirkel@fcc.gov.

RIN: 3060-AJ32

308. Implementation of Section 224 of the Act; a National Broadband Plan For Our Future (WC Docket No. 07-245, GN Docket No. 09-51)

E.O. 13771 Designation: Independent agency.

Legal Authority: 47 U.S.C. 151; 47 U.S.C. 154(i); 47 U.S.C. 154(j); 47 U.S.C. 224

Abstract: In 2010, the Commission released an Order and Further Notice of Proposed Rulemaking that implemented certain pole attachment recommendations of the National Broadband Plan and sought comment regarding others. On April 7, 2011, the Commission adopted a Report and Order and Order on Reconsideration that sets forth a comprehensive regulatory scheme for access to poles, and modifies existing rules for pole attachment rates and enforcement. In 2015, the Commission issued an Order on Reconsideration that further harmonized the pole attachment rates paid by telecommunications and cable providers.

The 2015 Order on Reconsideration was upheld on appeal before the U.S. Court of Appeals for the Eighth Circuit in Ameren Corporation, et al. v. FCC, Case No: 16-1683.

Timetable:

Action | Date | FR Cite
NPRM | 02/06/08 | 73 FR 6879
FNPRM | 07/15/10 | 75 FR 41338
Declaratory Ruling | 08/03/10 | 75 FR 45494
R&O | 05/09/11 | 76 FR 26620
Order on Recon | 02/03/16 | 81 FR 5605
Next Action Undetermined

Regulatory Flexibility Analysis Required: Yes.

Agency Contact: Michael Ray, Attorney, Federal Communications Commission, 445 12th Street SW, Washington, DC 20554, Phone: 202 418-0357.

RIN: 3060-AJ64

309. Rural Call Completion; WC Docket No. 13-39

E.O. 13771 Designation: Independent agency.

Legal Authority: 47 U.S.C. 151; 47 U.S.C. 154(i); 47 U.S.C. 201(b); 47 U.S.C. 202(a); 47 U.S.C. 218; 47 U.S.C. 220(a); 47 U.S.C. 257(a); 47 U.S.C. 403

Abstract: The recordkeeping, retention, and reporting requirements in the Report and Order improve the Commission's ability to monitor problems with completing calls to rural areas, and enforce restrictions against blocking, choking, reducing, or restricting calls. The Further Notice of Proposed Rulemaking sought comment on additional measures intended to further ensure reasonable and nondiscriminatory service to rural areas. The Report and Order applies new recordkeeping, retention, and reporting requirements to providers of long-distance voice service that make the initial long-distance call path choice for more than 100,000 domestic retail subscriber lines which, in most cases, is the calling party's long-distance provider. Covered providers are required to file quarterly reports and retain the call detail records for at least six calendar months. Qualifying providers may certify that they meet a Safe Harbor which reduces their reporting and retention obligations, or seek a waiver of these rules from the Wireline Competition Bureau, in consultation with the Enforcement Bureau. The Report and Order also adopts a rule prohibiting all originating and intermediate providers from causing audible ringing to be sent to the caller before the terminating provider has signaled that the called party is being alerted.

On February 13, 2015, the Wireline Competition Bureau provided additional guidance regarding how providers must categorize information. The Commission also adopted an Order on Reconsideration addressing petitions for reconsideration. Reports have been due quarterly beginning with the second quarter of 2015.

The Second FNPRM (released on July 14, 2017 (FCC 17-92)) seeks comment on proposals to revise its regulations to better address ongoing problems in the completion of long-distance telephone calls to rural areas.

Timetable:

Action | Date | FR Cite
NPRM | 04/12/13 | 78 FR 21891
Public Notice | 05/07/13 | 78 FR 26572
NPRM Comment Period End | 05/28/13 |
R&O and FNPRM | 12/17/13 | 78 FR 76218
PRA 60 Day Notice | 12/30/13 | 78 FR 79448
FNPRM Comment Period End | 02/18/14 |
PRA Comments Due | 03/11/14 |
Public Notice | 05/06/14 | 79 FR 25682
Order on Reconsideration | 12/10/14 | 79 FR 73227
Erratum | 01/08/15 | 80 FR 1007
Public Notice | 03/04/15 | 80 FR 11593
2nd FNPRM | 07/27/17 | 82 FR 34911
2nd FNPRM Comment Period End | 08/28/17 |
Reply Comment Period End | 09/25/17 |
Next Action Undetermined

Regulatory Flexibility Analysis Required: Yes.

Agency Contact: E. Alex Espinoza, Attorney-Advisor, Federal Communications Commission, 445 12th Street SW, Washington, DC 20554, Phone: 202 418-0849, Email: alex.espinoza@fcc.gov.

RIN: 3060-AJ89

310. Rates for Inmate Calling Services; WC Docket No. 12-375

E.O. 13771 Designation: Independent agency.

Legal Authority: 47 U.S.C. 151 to 152; 47 U.S.C. 154(i) to (j); 47 U.S.C. 225; 47 U.S.C. 276; 47 U.S.C. 303(r); 47 CFR 64

Abstract: In the Report and Order portion of this document, the Federal Communications Commission adopts rule changes to ensure that rates for both interstate and intrastate inmate calling services (ICS) are fair, just, and reasonable, as required by statute, and limits ancillary service charges imposed by ICS providers. In the Report and Order, the Commission sets caps on all interstate and intrastate calling rates for ICS, establishes a tiered rate structure based on the size and type of facility being served, limits the types of ancillary services that ICS providers may charge for and caps the charges for permitted fees, bans flat-rate calling, facilitates access to ICS by people with disabilities by requiring providers to offer free or steeply discounted rates for calls using TTY, and imposes reporting and certification requirements to facilitate continued oversight of the ICS market. In the Further Notice portion of the item, the Commission seeks comment on ways to promote competition for ICS, video visitation, rates for international calls, and considers an array of solutions to further address areas of concern in the ICS industry. In an Order on Reconsideration, the Commission amends its rate caps and amends the definition of “mandatory tax or mandatory fee.”

Timetable:

Action | Date | FR Cite
NPRM | 01/22/13 | 78 FR 4369
FNPRM | 11/13/13 | 78 FR 68005
R&O | 11/13/13 | 78 FR 67956
FNPRM Comment Period End | 12/20/13 |
Announcement of Effective Date | 06/20/14 | 79 FR 33709
2nd FNPRM | 11/21/14 | 79 FR 69682
2nd FNPRM Comment Period End | 01/15/15 |
2nd FNPRM Reply Comment Period End | 01/20/15 |
3rd FNPRM | 12/18/15 | 80 FR 79020
2nd R&O | 12/18/15 | 80 FR 79136
3rd FNPRM Comment Period End | 01/19/16 |
3rd FNPRM Reply Comment Period End | 02/08/16 |
Order on Reconsideration | 09/12/16 | 81 FR 62818
Announcement of OMB Approval | 03/01/17 | 82 FR 12182
Correction to Announcement of OMB Approval | 03/08/17 | 82 FR 12922
Next Action Undetermined

Regulatory Flexibility Analysis Required: Yes.

Agency Contact: Gil Strobel, Deputy Pricing Policy Division Chief, WCB, Federal Communications Commission, 445 12th Street SW, Washington, DC 20554, Phone: 202 418-7084.

RIN: 3060-AK08

311. Comprehensive Review of the Part 32 Uniform System of Accounts (WC Docket No. 14-130)

E.O. 13771 Designation: Independent agency.

Legal Authority: 47 U.S.C. 151; 47 U.S.C. 154(i); 47 U.S.C. 201(b); 47 U.S.C. 219; 47 U.S.C. 220

Abstract: The Commission initiates a rulemaking proceeding to review the Uniform System of Accounts (USOA) to consider ways to minimize the compliance burdens on incumbent local exchange carriers while ensuring that the Agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

On February 23, 2017, the Commission adopted an Report and Order that revised the part 32 USOA to substantially reduce accounting burdens for both price cap and rate-of-return carriers. First, the Order streamlines the USOA for all carriers. In addition, the USOA will be aligned more closely with generally accepted accounting principles, or GAAP. Second, the Order allows price cap carriers to use GAAP for all regulatory accounting purposes as long as they comply with targeted accounting rules, which are designed to mitigate any impact on pole attachment rates. Alternatively, price cap carriers can elect to use GAAP accounting for all purposes other than those associated with pole attachment rates and continue to use the part 32 accounts for pole attachment rates for up to 12 years. Third, the Order addresses several miscellaneous issues, including referral to the Federal-State Joint Board on Separations the issue of examining jurisdictional separations rules in light of the reforms adopted to part 32.

Timetable:

Action | Date | FR Cite
NPRM | 09/15/14 | 79 FR 54942
NPRM Comment Period End | 11/14/14 |
NPRM Reply Comment Period End | 12/15/14 |
R&O | 04/04/17 | 82 FR 20833
Next Action Undetermined

Regulatory Flexibility Analysis Required: Yes.

Agency Contact: Robin Cohn, Attorney Advisor, Federal Communications Commission, 445 12th Street SW, Washington, DC 20554, Phone: 202 418-2747, Email: robin.cohn@fcc.gov.

RIN: 3060-AK20

312. Restoring Internet Freedom (WC Docket No. 17-108); Protecting and Promoting the Open Internet; (GN Docket No. 14-28)

E.O. 13771 Designation: Independent agency.

Legal Authority: 47 U.S.C. 151; 47 U.S.C. 154(i) to (j); 47 U.S.C. 201(b)

Abstract: In May 2017, the Commission adopted a Notice of Proposed Rulemaking (NPRM) that proposes to restore the internet to a light-touch regulatory framework by classifying broadband internet access service as an information service and seeks comment on the existing rules governing internet service providers' practices. The NPRM proposes to end title II regulation of the internet and return broadband internet access service to its longstanding classification as an information service; proposes to reinstate the determination that mobile broadband internet access service is not a commercial mobile service, and to return it to its original classification as a private mobile service; proposes to eliminate the internet conduct standard and the non-exhaustive list of factors intended to guide application of that standard; and seeks comment on whether the Commission should keep, modify, or eliminate the bright-line rules set forth in the title II Order.

Previously, in February 2015, the Commission adopted a Report and Order on Remand, Declaratory Ruling, and Order (Title II Order) that reclassified broadband internet access service under title II of the Communications Act. The Commission also adopted new bright-line rules under its Title II authority, along with a general conduct standard applicable to broadband service providers, as well as additional reporting obligations. The rules became effective on June 12, 2015, with the exception of the additional reporting obligations, which became effective on January 17, 2017.

In March 2017, the Commission adopted an Order granting a five-year waiver to broadband internet access service providers with 250,000 or fewer broadband connections from the additional reporting obligations.

In December 2017, the Commission adopted the Restoring internet Freedom Declaratory Ruling, Report and Order, and Order (Restoring internet Freedom Order), which restored the light-touch regulatory framework under which the internet had grown and thrived for decades by classifying broadband internet access service as an information service. The Restoring internet Freedom Order ends Title II regulation of the internet and returns broadband internet access service to its long-standing classification as an information service; reinstates the determination that mobile broadband internet access service is not a commercial mobile service, and returns it to its original classification as a private mobile service; finds that transparency, ISPs' economic incentives, and antitrust and consumer protection laws will protect the openness of the internet, and that Title II regulation is unnecessary to do so; adopts a transparency rule similar to that in the 2010 Open internet Order, requiring disclosure of network management practices, performance characteristics, and commercial terms of service. Additionally, the transparency rule requires ISPs to disclose any blocking, throttling, paid prioritization, or affiliate prioritization; and eliminates the internet conduct standard and the bright-line conduct rules set forth in the Title II Order.

Timetable:

Action | Date | FR Cite
NPRM | 07/01/14 | 79 FR 37448
NPRM Comment Period End | 07/18/14 |
NPRM Reply Comment Period End | 09/15/14 |
R&O on Remand, Declaratory Ruling, and Order | 04/13/15 | 80 FR 19737
NPRM | 06/02/17 | 82 FR 25568
NPRM Comment Period End | 07/03/17 |
Declaratory Ruling, R&O, and Order | 02/22/18 | 83 FR 7852
Next Action Undetermined

Regulatory Flexibility Analysis Required: Yes.

Agency Contact: Melissa Kirkel, Attorney Advisor, Federal Communications Commission, Wireline Competition Bureau, 445 12th Street SW, Washington, DC 20554, Phone: 202 418-7958, Fax: 202 418-1413, Email: melissa.kirkel@fcc.gov.

RIN: 3060-AK21

313. Technology Transitions; GN Docket No. 13-5, WC Docket No. 05-25; Accelerating Wireline Broadband Deployment by Removing Barriers to Infrastructure Investment; WC Docket No. 17-84

E.O. 13771 Designation: Independent agency.

Legal Authority: 47 U.S.C. 214; 47 U.S.C. 251

Abstract: On April 20, 2017, the Commission adopted a Notice of Proposed Rulemaking, Notice of Inquiry, and Request for Comment (Wireline Infrastructure NPRM, NOl, and RFC) seeking input on a number of actions designed to accelerate: (1) The deployment of next-generation networks and services by removing barriers to infrastructure investment at the federal, state, and local level; (2) the transition from legacy copper networks and services to next-generation fiber-based networks and services; and (3) the reduction of Commission regulations that raise costs and slow, rather than facilitate, broadband deployment.

On November 16, 2017, the Commission adopted a Report and Order, Declaratory Ruling, and Further Notice of Proposed Rulemaking (Wireline Infrastructure Order) that takes a number of actions and seeks comment on further actions designed to accelerate the deployment of next-generation networks and services through removing barriers to infrastructure investment.

The Wireline Infrastructure Order takes a number of actions. First, the Report and Order revises the pole attachment rules to reduce costs for attachers, reforms the pole access complaint procedures to settle access disputes more swiftly, and increases access to infrastructure for certain types of broadband providers. Second, the Report and Order revises the section 2 14(a) discontinuance rules and the network change notification rules, including those applicable to copper retirements, to expedite the process for carriers seeking to replace legacy network infrastructure and legacy services with advanced broadband networks and innovative new services. Third, the Report and Order reversed a 2015 ruling that discontinuance authority is required for solely wholesale services to carrier-customers. Fourth, the Declaratory Ruling abandons the 2014 “functional test” interpretation of when section 214 discontinuance applications are required, bringing added clarity to the section 214(a) discontinuance process for carriers and consumers alike. Finally, the Further Notice of Proposed Rulemaking seeks comment on additional potential pole attachment reforms, reforms to the network change disclosure and section 214(a) discontinuance processes, and ways to facilitate rebuilding networks impacted by natural disasters.

The Wireline Infrastructure NPRM, NOI, and RFC sought comment on additional issues not addressed in the November Wireline Infrastructure Order. It sought comment on changes to the Commission's pole attachment rules to: (1) Streamline the tirneframe for gaining access to utility poles; (2) reduce charges paid by attachers for work done to make a pole ready for new attachments; and (3) establish a formula for computing the maximum pole attachment rate that may be imposed on an incumbent LEC. The Wireline Infrastructure NPRM, NOI, and RFC also sought comment on eliminating a requirement that carriers notify customers when changes to their facilities and equipment could reasonably render customer terminal equipment incompatible.

The Wireline Infrastructure NPRM, NOI, and RFC also sought comment on whether the Commission should enact rules, consistent with its authority under section 253 of the Act, to promote the deployment of broadband infrastructure by preempting state and local laws that inhibit broadband deployment. It also sought comment on whether there are state laws governing the maintenance or retirement of copper facilities that serve as a barrier to deploying next-generation technologies and services that the Commission might seek to preempt.

Previously, in November 2014, the Commission adopted a Notice of Proposed Rulemaking and Declaratory Ruling that (i) proposed new backup power rules; (ii) proposed new or revised rules for copper retirements and service discontinuances; and (iii) adopted a functional test in determining what constitutes a service” for purposes of section 214(a) discontinuance review. In August 2015, the Commission adopted a Report and Order, Order on Reconsideration, and Further Notice of Proposed Rulemaking that: (i) Lengthened and revised the copper retirement process; (ii) determined that a carrier must obtain Commission approval before discontinuing a service used as a wholesale input if the carrier's actions will discontinue service to a carrier-customer's retail end users; (iii) adopted an interim rule requiring incumbent LECs that seek to discontinue certain TDM-based wholesale services to commit to certain rates, terms, and conditions; (iv) proposed further revisions to the copper retirement discontinuance process; and (v) upheld the November 2014 Declaratory Ruling. In July 2016, the Commission adopted a Second Report and Order, Declaratory Ruling, and Order on Reconsideration that: (i) Adopted a new test for obtaining streamlined treatment when carriers seek Commission authorization to discontinue legacy services in favor of services based on newer technologies; (ii) set forth consumer education requirements for carriers seeking to discontinue legacy services in favor of services based on newer technologies; (iii) allowed notice to customers of discontinuance applications by email; (iv) required carriers to provide notice of discontinuance applications to Tribal entities; (v) made a technical rule change to create a new title for copper retirement notices and certifications; and (vi) harmonized the timeline for competitive LEC discontinuances caused by incumbent LEC network changes.

Timetable:

Action | Date | FR Cite
NPRM | 01/06/15 | 80 FR 450
NPRM Comment Period End | 02/05/15 |
NPRM Reply Comment Period End | 03/09/15 |
FNPRM | 09/25/15 | 80 FR 57768
R&O | 09/25/15 | 80 FR 57768
FNPRM Comment Period End | 10/26/15 |
FNPRM Reply Comment Period End | 11/24/15 |
2nd R&O | 09/12/16 | 81 FR 62632
NPRM | 05/16/17 | 82 FR 224533
NPRM Comment Period End | 06/15/17 |
NPRM Reply Comment Period End | 07/17/17 |
R&O | 12/28/17 | 82 FR 61520
FNPRM Comment Period End | 01/17/18 |
FNPRM Reply Comment Period End | 02/16/18 |
Next Action Undetermined

Regulatory Flexibility Analysis Required: Yes.

Agency Contact: Michele Levy Berlove, Attorney Advisor, Federal Communications Commission, 445 12th Street SW, Washington, DC 20554, Phone: 202 418-1477, Email: michele.berlove@fcc.gov.

RIN: 3060-AK32

314. Modernizing Common Carrier Rules, WC Docket No. 15-33

E.O. 13771 Designation: Independent agency.

Legal Authority: 47 U.S.C. 151; 47 U.S.C. 152(a); 47 U.S.C. 154(j); 47 U.S.C. 154(i); 47 U.S.C. 160 to 161; 47 U.S.C. 201 to 205; 47 U.S.C. 214; 47 U.S.C. 218 to 221; 47 U.S.C. 225 to 228; 47 U.S.C. 254; 47 U.S.C. 303; 47 U.S.C. 308; 47 U.S.C. 403; 47 U.S.C. 410; 47 U.S.C. 571; 47 U.S.C. 1302; 52 U.S.C. 30141

Abstract: The Notice of Proposed Rulemaking (Notice) seeks to update our rules to better reflect current requirements and technology by removing outmoded regulations from the Code of Federal Regulations. The Notice proposes to update the CFR by (1) eliminating certain rules from which the Commission has forborn, and (2) eliminating references to telegraph service in certain rules. We propose to eliminate several rules from which the Commission has granted unconditional forbearance for all carriers. These are: (1) Section 64.804(c)-(g), which governs a carrier's recordkeeping and other obligations when it extends to federal candidates unsecured credit for communications service; (2) sections 42.4, 42.5, and 42.7, which require carriers to preserve certain records; (3) section 64.301, which requires carriers to provide communications service to foreign governments for international communications; (4) section 64.501, governing telephone companies' obligations when recording telephone conversations; (5) section 64.5001(a)-(c)(2), and (c)(4), which imposes certain reporting and certification requirements for prepaid calling card providers; and (6) section 64.1, governing traffic damage claims for carriers engaged in radio-telegraph, wire-telegraph, or ocean-cable service. We also propose to remove references to telegraph from certain sections of the Commission's rules. This proposal is consistent with Recommendation 5.38 of the Process Reform Report. Specifically, we propose to remove telegraph from: (1) Section 36.126 (separations); (2) section 54.706(a)(13) (universal service contributions); and (3) sections 63.60(c), 63.61, 63.62, 63.65(a)(4), 63.500(g), 63.501(g), and 63.504(k) (discontinuance).

The Report and Order (Order) updates our rules to remove outmoded regulations from the Code of Federal Regulations (CFR) that no longer reflect current requirements or technology. We eliminate certain rules from which the Commission has granted unconditional forbearance for all carriers, and we eliminate references to telegraph service from certain sections of the Commission's rules. Specifically, the Order deletes the following CFR provisions from which the Commission has forborne: (1) Sections 42.4, 42.5, and 42.7, which required carriers to preserve certain records; (2) section 64.1, which governed traffic damage claims for carriers engaged in radio-telegraph, wire-telegraph, or ocean-cable service; (3) section 64.301, which required carriers to provide communications services to foreign governments for international communications; (4) section 64.501, which governed telephone companies' obligations when recording telephone conversations; (5) section 64.804(c)-(g), which governed a carrier's recordkeeping and other obligations when it extended unsecured credit for communications services to candidates for federal office; and (6) section 64.5001(a)-(c)(2), and (c)(4), which imposed certain reporting and certification requirements on prepaid calling card providers. The Order also finds that references to telegraph service in other rules are unnecessary and deletes them from the CFR. Specifically, we remove telegraph” from: (1) Section 36.126 (separations); (2) section 54.706(a)(13) (universal service contributions); and (3) sections 63.60(c), 63.61, 63.62, 63.65(a)(4), 63.500(g), 63.501(g), and 63.504(k) (discontinuance). We also grant forbearance from the application of all exit regulation pursuant to section 214(a) of the Communications Act, as amended, to telegraph service.

Timetable:

Action | Date | FR Cite
NPRM | 05/06/15 | 80 FR 25989
R&O | 10/20/17 | 82 FR 48774
Next Action Undetermined |  |

Regulatory Flexibility Analysis Required: Yes.

Agency Contact: Nirali Patel, Deputy Chief, Competition Policy Division, WCB, Federal Communications Commission, 445 12th Street SW, Washington, DC 20554, Phone: 202 418-7830, Email: nirali.patel@fcc.gov.

RIN: 3060-AK33

315. Numbering Policies for Modern Communications, WC Docket No. 13-97

E.O. 13771 Designation: Independent agency.

Legal Authority: 47 U.S.C. 151; 47 U.S.C. 153 to 154; 47 U.S.C. 201 to 205; 47 U.S.C. 251; 47 U.S.C. 303(r)

Abstract: This Order establishes a process to authorize interconnected VoIP providers to obtain North American Numbering Plan (NANP) telephone numbers directly from the numbering administrators, rather than through intermediaries. Section 52.15(g)(2)(i) of the Commission's rules limits access to telephone numbers to entities that demonstrate they are authorized to provide service in the area for which the numbers are being requested. The Commission has interpreted this rule as requiring evidence of either a state certificate of public convenience and necessity (CPCN) or a Commission license. Neither authorization is typically available in practice to interconnected VoIP providers. Thus, as a practical matter, generally only telecommunications carriers are able to provide the proof of authorization required under our rules, and thus able to obtain numbers directly from the numbering administrators. This Order establishes an authorization process to enable interconnected VoIP providers that choose direct access to request numbers directly from the numbering administrators. Next, the Order sets forth several conditions designed to minimize number exhaust and preserve the integrity of the numbering system.

The Order requires interconnected VoIP providers obtaining numbers to comply with the same requirements applicable to carriers seeking to obtain numbers. These requirements include any state requirements pursuant to numbering authority delegated to the states by the Commission, as well as industry guidelines and practices, among others. The Order also requires interconnected VoIP providers to comply with facilities readiness requirements adapted to this context, and with numbering utilization and optimization requirements. As conditions to requesting and obtaining numbers directly from the numbering administrators, interconnected VoIP providers are also required to: (1) Provide the relevant State commissions with regulatory and numbering contacts when requesting numbers in those states; (2) request numbers from the numbering administrators under their own unique OCN; (3) file any requests for numbers with the relevant State commissions at least 30 days prior to requesting numbers from the numbering administrators; and (4) provide customers with the opportunity to access all abbreviated dialing codes (N11 numbers) in use in a geographic area.

Finally, the Order also modifies Commission's rules in order to permit VoIP Positioning Center (VPC) providers to obtain pseudo-Automatic Number Identification (p-ANI) codes directly from the numbering administrators for purposes of providing E911 services.

Timetable:

Action | Date | FR Cite
NPRM | 06/19/13 | 78 FR 36725
NPRM Comment Period End | 07/19/13 |
R&O | 10/29/15 | 80 FR 66454
Next Action Undetermined |  |

Regulatory Flexibility Analysis Required: Yes.

Agency Contact: Marilyn Jones, Senior Counsel, Federal Communications Commission, Wireline Competition Bureau, 445 12th Street SW, Washington, DC 20554, Phone: 202 418-2357, Fax: 202 418-2345, Email: marilyn.jones@fcc.gov.

RIN: 3060-AK36

316. Implementation of the Universal Service Portions of the 1996 Telecommunications Act

E.O. 13771 Designation: Independent agency.

Legal Authority: 47 U.S.C. 151 et seq.

Abstract: The Telecommunications Act of 1996 expanded the traditional goal of universal service to include increased access to both telecommunications and advanced services such as high-speed internet for all consumers at just, reasonable and affordable rates. The Act established principles for universal service that specifically focused on increasing access to evolving services for consumers living in rural and insular areas, and for consumers with low-incomes. Additional principles called for increased access to high-speed internet in the nation's schools, libraries and rural health care facilities. The FCC established four programs within the Universal Service Fund to implement the statute: Connect America Fund (formally known as High-Cost Support) for rural areas; Lifeline (for low-income consumers), including initiatives to expand phone service for Native Americans; Schools and Libraries (E-rate); and Rural Health Care.

The Universal Service Fund is paid for by contributions from telecommunications carriers, including wireline and wireless companies, and interconnected Voice over internet Protocol (VoIP) providers, including cable companies that provide voice service, based on an assessment on their interstate and international end-user revenues. The Universal Service Administrative Company, or USAC, administers the four programs and collects monies for the Universal Service Fund under the direction of the FCC.

Timetable:

Action | Date | FR Cite
R&O and FNPRM | 01/13/17 | 82 FR 4275
NPRM Comment Period End | 02/13/17 |
NPRM Reply Comment Period End | 02/27/17 |
R&O and Order on Recon | 03/21/17 | 82 FR 14466
Order on Recon | 05/19/17 | 82 FR 22901
Order on Recon | 06/08/17 | 82 FR 26653
Memorandum, Opinion & Order | 06/21/17 | 82 FR 228224
Next Action Undetermined

Regulatory Flexibility Analysis Required: Yes.

Agency Contact: Nakesha Woodward, Program Support Assistant, Federal Communications Commission, 445 12th Street SW, Washington, DC 20554, Phone: 202 418-1502, Email: kesha.woodward@fcc.gov.

RIN: 3060-AK57

[FR Doc. 2018-11237 Filed 6-8-18; 8:45 am]

BILLING CODE 6712-01-P